ENVIRONMENTAL PROTECTION AGENCY

[EPA-HQ-OPP-2024-0094; FRL-12286-01-OCSPP]

Pesticide Registration Maintenance Fee; Notice of Receipt of Requests To Voluntarily Cancel Certain Pesticide Registrations and Notice of Intent To Cancel Certain Other Pesticide Registrations for Non-Payment

AGENCY: Environmental Protection Agency (EPA).

ACTION: Notice.

SUMMARY: EPA is issuing a notice of receipt of requests by registrants, submitted as part of their 2024 Pesticide Registration Maintenance Fee responses, to voluntarily cancel certain pesticide registrations. EPA intends to grant these requests to cancel at the close of the comment period for this announcement unless the Agency receives substantive comments within the comment period that would merit its further review of the requests to cancel, or unless the registrants withdraw its requests to cancel. If these requests to cancel are granted, any sale, distribution, or use of products listed in this notice will be permitted after the registrations have been cancelled only if such sale, distribution, or use is consistent with the terms as described in the final order. Additionally, EPA is issuing a notice of intent to cancel other pesticide product registrations as a result of registrants' non-payment of 2024 Pesticide Registration Maintenance Fees.

DATES: Comments must be received on or before December 19, 2024.

ADDRESSES: Submit your comments, identified by docket identification (ID) number EPA-HQ-OPP-2024-0094, through the Federal eRulemaking Portal at https://www.regulations.gov. Follow the online instructions for submitting comments. Do not submit electronically any information you consider to be Confidential Business Information (CBI) or other information whose disclosure is restricted by statute. Additional instructions on commenting and visiting the docket, along with more information about dockets generally, is available at https://www.epa.gov/dockets.

Submit written withdrawal request by mail to: Registration Division (7505M), Office of Pesticide Programs, Environmental Protection Agency, 1200 Pennsylvania Ave. NW, Washington, DC 20460-0001. ATTN: Brenda Minnema.

FOR FURTHER INFORMATION CONTACT: Brenda Minnema, Registration Division (7505M), Office of Pesticide Programs, Environmental Protection Agency, 1200 Pennsylvania Ave. NW, Washington, DC 20460-0001; telephone number: (202) 566-2840; email address: minnema.brenda@epa.gov.

SUPPLEMENTARY INFORMATION:

I. General Information

A. Does this action apply to me?

This action is directed to the public in general and may be of interest to a wide range of stakeholders including environmental, human health, and agricultural advocates; the chemical industry; pesticide users; and members of the public interested in the sale, distribution, or use of pesticides. Since others also may be interested, the Agency has not attempted to describe all the specific entities that may be affected by this action.

B. What action is the Agency taking?

Pursuant to Federal Insecticide, Fungicide, and Rodenticide Act (FIFRA) section 6(f) (7 U.S.C. 136d(f)), this document announces receipt by the Agency of requests from registrants to cancel the pesticide products listed in table 1 of unit II. that are registered under FIFRA section 3 (7 U.S.C. 136a) or section 24(c) (7 U.S.C. 136v(c)). Unless the Agency determines that there are substantive comments that warrant further review of the requests or the registrants withdraw their requests, EPA intends to issue an order in the Federal Register canceling all the registrations.

Additionally, pursuant to FIFRA section 4(i)(1)(M) (7 U.S.C. 136a-1(i)(1)(M)), EPA is issuing a notice of intent to cancel the pesticide product registrations listed in table 3 of unit II, as a result of registrants' non-payment of 2024 Pesticide Registration Maintenance Fees.

II. What action is the Agency taking?

This notice announces receipt by the Agency of requests from registrants to cancel 64 pesticide products registered under FIFRA section 3 (7 U.S.C. 136a) or section 24(c) (7 U.S.C. 136v(c)). These registrations are listed in sequence by registration number (or company number and 24(c) number) in table 1 of this unit.

Pursuant to FIFRA section 6(f) (7 U.S.C. 136d(f)), unless the Agency determines that there are substantive comments that warrant further review of the requests or the registrants withdraw their requests, EPA intends to issue an order in the Federal Register canceling all the registrations listed in Table 1 of this unit.

Additionally, pursuant to FIFRA section 4(i)(1)(M) (7 U.S.C. 136a-1(i)(1)(M)), this notice announces the Agency's intent to cancel 424 other pesticide products registered under FIFRA section 3 (7 U.S.C. 136a) or section 24(c) (7 U.S.C. 136v(c)) as a result of registrants' failure to pay maintenance fees for those registered products by the statutory deadline. These registrations are listed in sequence by registration number (or company number and 24(c) number) in table 3 of this unit.

Unless the Agency receives prompt payment of maintenance fees due for the registrations listed in table 3, the Agency will issue an order in the Federal Register cancelling any of the listed products listed for which inadequate or no payment has been received.

Table 1—Registrations With Pending Requests for Cancellation
Registration No. | Company No. | Product name | Active ingredient
4-142 | 4 | GRUBTOX LAWN GRUB AND INSECT CONTROL | Carbaryl—(4.6%).
4-143 | 4 | BONIDE SEVIN 5% DUST INSECTICIDE | Carbaryl—(5%).
4-413 | 4 | SEVIN GARDEN DUST | Carbaryl—(5%).
4-458 | 4 | COPPER DRAGON TOMATO & VEGETABLE DUST | Basic copper sulfate—(7%), Carbaryl—(2%).
100-702 | 100 | ORBIT FUNGICIDE | Propiconazole—(41.8%).
100-893 | 100 | VARSITY FIRE ANT BAIT | Abamectin—(.011%).
100-1452 | 100 | AWARD II FIRE ANT BAIT | Abamectin—(.011%).
100-1685 | 100 | Oplice | Metalaxyl-M—(45.3%).
538-160 | 538 | TURF BUILDER PLUS 2 W/S FOR GRASS | MCPA—(1.37%), MCPP—(1.37%).
1381-229 | 1381 | TEBU+META | Metalaxyl—(.64%), Tebuconazole—(.48%).
1706-181 | 1706 | 93NF 152 | Sodium bromide—(42.8%).
5383-149 | 5383 | Mergal 760 | 1,2-Benzisothiazolin-3-one—(10.1%), 2-Methyl-3(2H)-isothiazolone—(.53%), 5-Chloro-2-methyl-3(2H)-isothiazolone—(1.67%).
8329-81 | 8329 | NATULAR 1 EC | Spinosad—(10.27%).
8329-107 | 8329 | Natular 10EC | Spinosad—(10.27%).
9198-123 | 9198 | THE ANDERSONS FERTILIZER WITH 0.21% BARRICADE HERBICIDE | Prodiamine—(.21%).
9198-234 | 9198 | THE ANDERSONS BICARB LAWN INSECT KILLER GRANULES | Bifenthrin—(.058%), Carbaryl—(2.3%).
9688-303 | 9688 | BLACK FLAG INSECTICIDE DUST | Deltamethrin—(.05%).
9688-304 | 9688 | TAT ROACH BAIT | Propoxur—(2%).
9688-305 | 9688 | TAT ANT TRAP | Propoxur—(.25%).
66222-10 | 66222 | DIAZINON 50W | Diazinon—(50%).
89459-72 | 89459 | EQUIL CHLORPYRIFOS ULV 1 | Chlorpyrifos—(13.624%).
89459-73 | 89459 | EQUIL CHLORPYRIFOS ULV 2 | Chlorpyrifos—(24.6%).
AL130001 | 67690 | CAPTAIN LIQUID COPPER ALGAECIDE | Copper ethanolamine complex—(28.2%).
AZ080008 | 279 | AIM EC HERBICIDE | Carfentrazone-ethyl—(22.3%).
CA120005 | 100 | GRAMOXONE SL 2. O | Paraquat dichloride—(30.1%).
CO990011 | 5481 | DIBROM 8 EMULSIVE | Naled—(62%).
FL120001 | 66330 | CAPTEC 4L CAPTAN FLOWABLE FUNGICIDE | Captan—(38.75%).
FL980006 | 5481 | ALCO CITRUS FIX | 2,4-D, isopropyl ester—(45%).
GA110006 | 67690 | CAPTAIN LIQUID COPPER ALGAECIDE | Copper ethanolamine complex—(28.2%).
GA120004 | 100 | GRAMOXONE SL 2.0 | Paraquat dichloride—(30.1%).
HI110001 | 5481 | DUPONT ASSURE II HERBICIDE | Quizalofop-p-ethyl—(10.3%).
HI120002 | 100 | TILT FUNGICIDE | Propiconazole—(41.8%).
ID110007 | 67690 | CAPTAIN LIQUID COPPER ALGAECIDE | Copper ethanolamine complex—(28.2%).
ID150011 | 81880 | GWN-1715 | Pyridaben—(75%).
LA120005 | 59639 | V-10142 AG HERBICIDE | IMAZOSULFURON—(75%).
LA130003 | 279 | CHEMINOVA FOMESAFEN 2.0 HERBICIDE | Sodium salt of fomesafen—(22.8%).
ME130001 | 10163 | MALATHION 8 | Malathion—(79.5%).
ME170001 | 10163 | MALATHION 8 | Malathion—(79.5%).
MN090002 | 70506 | SUPER TIN 80WP | Fentin hydroxide—(80%).
MN190005 | 100 | DUAL MAGNUM HERBICIDE | S-Metolachlor—(83.7%).
MO130002 | 279 | CHEMINOVA FOMESAFEN 2.0 HERBICIDE | Sodium salt of fomesafen—(22.8%).
MS120007 | 100 | GRAMOXONE SL 2. O | Paraquat dichloride—(30.1%).
MS130001 | 279 | CHEMINOVA FOMESAFEN 2.0 HERBICIDE | Sodium salt of fomesafen—(22.8%).
MS140002 | 67690 | CAPTAIN LIQUID COPPER ALGAECIDE | Copper ethanolamine complex—(28.2%).
MT050003 | 5481 | DISCIPLINE 2EC | Bifenthrin—(25.1%).
MT130001 | 100 | GRAMOXONE SL 2.0 | Paraquat dichloride—(30.1%).
NC120004 | 100 | GRAMOXONE SL 2. O | Paraquat dichloride—(30.1%).
NC180002 | 5481 | PARAZONE 3SL HERBICIDE | Paraquat dichloride—(43.8%).
ND090002 | 70506 | SUPER TIN 80WP FUNGICIDE | Fentin hydroxide—(80%).
ND170004 | 279 | F7127 SE HERBICIDE | Carfentrazone-ethyl—(3.53%), Sulfentrazone—(31.77%).
NE150001 | 279 | AIM EC | Carfentrazone-ethyl—(22.3%).
NJ120002 | 100 | GRAMOXONE SL 2.0 | Paraquat dichloride—(30.1%).
NV170001 | 10163 | TREFLAN TR-10 | Trifluralin—(43%).
NV170008 | 10163 | ONAGER EW MITICIDE | Hexythiazox—(11.93%).
NY120015 | 279 | DUPONT UPBEET HERBICIDE | Triflusulfuron-methyl—(50%).
NY140006 | 10163 | ENVIDOR 2 SC | Spirodiclofen—(22.3%).
PR170001 | 100 | PROCLAIM INSECTICIDE | Emamectin benzoate—(5%).
PR180001 | 5481 | DUPONT ASSURE II HERBICIDE | Quizalofop-p-ethyl—(10.3%).
SC000004 | 100 | REWARD LANDSCAPE AND AQUATIC HERBICIDE | Diquat dibromide—(37.3%).
TN210003 | 100 | GRAMOXONE SL 2.0 | Paraquat dichloride—(30.1%).
TN210004 | 100 | GRAMOXONE SL 2.0 | Paraquat dichloride—(30.1%).
TX220002 | 100 | Gramoxone® SL 2.0 | Paraquat dichloride—(30.1%).
WI050002 | 5481 | DACTHAL W-75 | DCPA—(75%).
WY180001 | 5481 | PARAZONE 3SL HERBICIDE | Paraquat dichloride—(43.8%).

Table 2 of this unit includes the names and addresses of record for all registrants of the products in table 1 of this unit, in sequence by EPA company number. This number corresponds to the first part of the EPA registration numbers of the products listed in this unit.

Table 2—Registrants Requesting Voluntary Cancellation
Company No. | Company name and address
4 | BONIDE PRODUCTS, LLC, 6301 SUTLIFF ROAD, ORISKANY, NY 13424.
100 | SYNGENTA CROP PROTECTION, LLC, 410 SWING ROAD, GREENSBORO, NC 27419.
279 | FMC CORPORATION, 2929 WALNUT STREET, PHILADELPHIA, PA 19104.
538 | SCOTTS COMPANY, THE, 14111 SCOTTSLAWN ROAD, MARYSVILLE, OH 43041.
1381 | WINFIELD SOLUTIONS, LLC, PO BOX 64589, ST. PAUL, MN 55164.
1706 | NALCO COMPANY, LLC, 1601 WEST DIEHL ROAD, NAPERVILLE, IL 60563.
5383 | TROY CHEMICAL CORPORATION, ONE AVENUE L, NEWARK, NJ 07105.
5481 | AMVAC CHEMICAL CORPORATION, 4695 MACARTHUR COURT, SUITE 1200, NEWPORT BEACH, CA 92660.
8329 | CLARKE MOSQUITO CONTROL PRODUCTS, INC., 675 SIDWELL COURT, ST. CHARLES, IL 60174.
9198 | THE ANDERSONS, INC., 1947 BRIARFIELD BLVD, MAUMEE, OH 43537.
9688 | CHEMSICO, ONE RIDER TRAIL PLAZA DRIVE, SUITE 300, EARTH CITY, MO 63045.
10163 | GOWAN COMPANY, LLC, 370 S. MAIN ST., YUMA, AZ 85366.
59639 | VALENT U.S.A. LLC, 4600 NORRIS CANYON ROAD, SAN RAMON, CA 94583.
66222 | MAKHTESHIM AGAN OF NORTH AMERICA, INC., 8601 SIX FORKS ROAD, SUITE 300, RALEIGH, NC 27615.
66330 | ARYSTA LIFESCIENCE NORTH AMERICA LLC, C/O UPL NA INC.630 FREEDOM BUSINESS CENTER, SUITE 402, KING OF PRUSSIA, PA 19406.
67690 | SEPRO CORPORATION, 11550 N. MERIDIAN STREET, SUITE 600, CARMEL, IN 46032.
70506 | UPL NA INC, P O BOX 12219, RESEARCH TRIANGLE PARK, NC 27709.
81880 | CANYON GROUP LLC, 370 S. MAIN STREET, YUMA, AZ 85364.
89459 | CENTRAL GARDEN & PET COMPANY, 1501 EAST WOODFIELD ROAD, SUITE 200W, SCHAUMBURG, IL 60173.

Table 3—FIFRA Section 3 and Section 24(c) Registrations Cancelled for Non-Payment of 2024 Maintenance Fees
Registration No. | Company No. | Product name | Active ingredient
106-72 | 106 | UNICIDE 128 | 1-Decanaminium, N,N-dimethyl-N-octyl-, chloride—(2.4%), 1-Decanaminium, N-decyl-N,N-dimethyl-, chloride—(1.617%), 1-Octanaminium, N,N-dimethyl-N-octyl-, chloride—(1.2%), Alkyl* dimethyl benzyl ammonium chloride *(50%C14, 40%C12, 10%C16)—(3.2%).
106-73 | 106 | UNICIDE 256 | 1-Decanaminium, N,N-dimethyl-N-octyl-, chloride—(4.8%), 1-Decanaminium, N-decyl-N,N-dimethyl-, chloride—(3.23%), 1-Octanaminium, N,N-dimethyl-N-octyl-, chloride—(2.4%), Alkyl* dimethyl benzyl ammonium chloride *(50%C14, 40%C12, 10%C16)—(6.4%).
106-81 | 106 | UNICIDE RTU | 1-Decanaminium, N,N-dimethyl-N-octyl-, chloride—(.0281%), 1-Decanaminium, N-decyl-N,N-dimethyl-, chloride—(.0189%), 1-Octanaminium, N,N-dimethyl-N-octyl-, chloride—(.0141%), Alkyl* dimethyl benzyl ammonium chloride *(50%C14, 40%C12, 10%C16)—(.0375.
106-85 | 106 | UNIQUAT® PLUS 64 | 1-Decanaminium, N-decyl-N,N-dimethyl-, chloride—(2.54%), Alkyl* dimethyl benzyl ammonium chloride *(50%C14, 40%C12, 10%C16)—(1.69%).
211-65 | 211 | TRI-CEN | 2-Benzyl-4-chlorophenol—(4.21%), 4-tert-Amylphenol—(2.22%), o-Phenylphenol (NO INERT USE)—(2.52%).
224-32 | 224 | PHILLIPS FUEL ADDITIVE 56 MB | Diethylene glycol monomethyl ether—(99.7%).
1007-90 | 1007 | DURASECT LIVESTOCK POUR-ON | Permethrin—(1%).
1007-91 | 1007 | DURASECT II | Permethrin—(5%), Piperonyl butoxide—(1%), Pyrethrins—(.1%).
1007-94 | 1007 | MITA-CLEAR | MGK 264—(.5%), MGK 326—(1%), Piperonyl butoxide—(1.5%), Pyrethrins—(.15%).
1007-95 | 1007 | DEMIDITRAZ TECHNICAL | Demiditraz—(100%).
1007-97 | 1007 | LA COMBO | Demiditraz—(14.4%), Fipronil—(4.8%).
1130-20 | 1130 | Disinfectant I | Alkyl* dimethyl benzyl ammonium chloride *(60%C12, 30%C14, 5%C16, 5%C18)—(.185%), n-Alkyl (68% C12, 32% C14) dimethyl dimethylbenzyl ammonium chloride—(.185%).
2749-641 | 2749 | Dicromax 8EC Insecticide | Dicrotophos—(82%).
2749-642 | 2749 | Dicrotophos Technical | Dicrotophos—(85%).
2749-643 | 2749 | Dicromax XP Insecticide | Bifenthrin—(10.8%), Dicrotophos—(43.1%).
3095-25 | 3095 | PIC ROACH CONTROL SYSTEMS | Propoxur—(2%).
3377-25 | 3377 | SANIBROM 40 BIOCIDE | Sodium bromide—(40%).
3377-28 | 3377 | SODIUM BROMIDE 45 TECHNICAL | Sodium bromide—(45%).
3377-32 | 3377 | SANIBROM 40 BIOCIDE TECHNICAL | Sodium bromide—(40%).
3377-55 | 3377 | ALBEMARLE S909 BIOCIDE | Sodium N-bromosulfamate, mixture with sodium N-chlorosulfamate—(18%).
3377-78 | 3377 | STABROM PLUS BIOCIDE | Sodium N-bromosulfamate, mixture with sodium N-chlorosulfamate—(22%).
3377-79 | 3377 | MAXXIS BIOCIDE | Sodium N-bromosulfamate, mixture with sodium N-chlorosulfamate—(25%).
3377-80 | 3377 | DBDMH FSI | 1,3-Dibromo-5,5-dimethylhydantoin—(99.4%).
3487-27 | 3487 | EAGLES-7 FLEA AND TICK SPRAY | Permethrin—(.5%).
3525-22 | 3525 | UTIKEM ALGAESAN MULTI-PURPOSE ALGAECIDE | Alkyl* dimethyl benzyl ammonium chloride *(60%C14, 30%C16, 5%C18, 5%C12)—(9.96%), Dialkyl* methyl benzyl ammonium chloride *(60% C14, 30% C16, 5% C18, 5% C12)—(.04%).
3525-33 | 3525 | CHLORO-PURE CHLORINE SANITIZER | Lithium hypochlorite—(29%).
3525-38 | 3525 | UNIVERSAL REPLACEMENT CARTRIDGE | Trichloro-s-triazinetrione—(99.3%).
3525-65 | 3525 | UTIKEM WTC-100 ALGAE CONTROL | Poly(oxy-1,2-ethanediyl(dimethylimino)-1,2-ethanediyl(dimethylimino)-1,2-ethanediyl dichloride)—(15%).
3525-66 | 3525 | UTIKEM SUPER ALGAEATE | Poly(oxy-1,2-ethanediyl(dimethylimino)-1,2-ethanediyl(dimethylimino)-1,2-ethanediyl dichloride)—(10%).
3525-75 | 3525 | UTIKEM TRICHLOR SHOCK TREATMENT | Trichloro-s-triazinetrione—(99%).
3525-78 | 3525 | ALGAE DESTROYER | Alkyl* dimethyl benzyl ammonium chloride *(60%C14, 30%C16, 5%C18, 5%C12)—(2.49%), Dialkyl* methyl benzyl ammonium chloride *(60% C14, 30% C16, 5% C18, 5% C12)—(.01%).
3525-88 | 3525 | CLOR-KARE CHLORINATING GRANULES | Calcium hypochlorite—(50%).
3525-89 | 3525 | CLOR KARE CHLORINATING TABLETS | Calcium hypochlorite—(50%).
3525-94 | 3525 | COASTAL POOL AID POWDER SURFACE SANITIZER | Alkyl* dimethyl benzyl ammonium chloride *(60%C14, 30%C16, 5%C18, 5%C12)—(3%).
3525-95 | 3525 | COASTAL PERMACIDE LIQUID PERMANENT ALGAECIDE FOR SWIM & SPLASHER POOLS | Copper sulfate pentahydrate—(2.57%).
3525-97 | 3525 | WINTER AID | Alkyl* dimethyl benzyl ammonium chloride *(60%C14, 25%C12, 15%C16)—(7.5%).
3525-98 | 3525 | COASTAL LIQUID POOL SHOCK TREATMENT FOR SWIMMING POOLS | Sodium hypochlorite—(12%).
3525-99 | 3525 | COASTAL POOL DEODOR | Alkyl* dimethyl benzyl ammonium chloride *(60%C14, 25%C12, 15%C16)—(20%).
3525-100 | 3525 | WINTER TABLETS “G“ | Alkyl* dimethyl benzyl ammonium chloride *(60%C14, 25%C12, 15%C16)—(7.5%).
3525-101 | 3525 | BOOST POOL SHOCK TREATMENT | Calcium hypochlorite—(68%).
3525-103 | 3525 | CAL JET ALGAECIDE LIQUID | Alkyl* dimethyl benzyl ammonium chloride *(60%C14, 25%C12, 15%C16)—(7.5%).
3525-104 | 3525 | ISO CLOR “C” SUPER STABILIZED CHLORINATING POWDER | Alkyl* dimethyl benzyl ammonium chloride *(95%C14, 3%C12, 2%C16)—(1%), Sodium dichloroisocyanurate dihydrate—(64%).
3525-106 | 3525 | LIQUID ALGECIDE | Alkyl* dimethyl benzyl ammonium chloride *(60%C14, 30%C16, 5%C18, 5%C12)—(4.98%), Dialkyl* methyl benzyl ammonium chloride *(60% C14, 30% C16, 5% C18, 5% C12)—(.02%).
3525-107 | 3525 | ISO CLOR II SUPER STABILIZED CHLORINATING GRANULES | Sodium dichloroisocyanurate dihydrate—(99.3%).
3525-108 | 3525 | TARRY 7-DAY STABILIZED CHLORINATING BIG TABS | Trichloro-s-triazinetrione—(99.3%).
3525-110 | 3525 | GUARDIAN CHLORINATING GRANULES | Calcium hypochlorite—(68%).
3525-111 | 3525 | COASTAL TARRY LONG-LASTING CHLORINATING 1 OZ. TABLETS | Trichloro-s-triazinetrione—(98.8%).
3525-112 | 3525 | ISO CLOR II FAST DISSOLVING TABLETS | Sodium dichloroisocyanurate dihydrate—(99%).
3525-113 | 3525 | TARRY LONG LASTING CHLORINATING ½ OZ. TABLETS | Trichloro-s-triazinetrione—(99.3%).
3525-114 | 3525 | NON-FOAMING ALGAECIDE FOR SPAS AND HOT TUBS | Poly(oxy-1,2-ethanediyl(dimethylimino)-1,2-ethanediyl(dimethylimino)-1,2-ethanediyl dichloride)—(6%).
3525-115 | 3525 | GUARDIAN CHLORINATING TABLETS | Calcium hypochlorite—(68%).
3525-116 | 3525 | STABILIZED CHLORINATING CONCENTRATED GRANULES | Sodium dichloroisocyanurate dihydrate—(99%).
3525-117 | 3525 | ALGON 60 ALGAECIDE | Poly(oxy-1,2-ethanediyl(dimethylimino)-1,2-ethanediyl(dimethylimino)-1,2-ethanediyl dichloride)—(60%).
3525-118 | 3525 | COASTAL CONCENTRATE 50 | Alkyl* dimethyl benzyl ammonium chloride *(60%C14, 30%C16, 5%C18, 5%C12)—(49.8%), Dialkyl* methyl benzyl ammonium chloride *(60% C14, 30% C16, 5% C18, 5% C12)—(.2%).
3525-119 | 3525 | TARRY LONG-LASTING CHLORINATING 7 OZ. STICKS/TABLETS | Trichloro-s-triazinetrione—(99.3%).
3525-120 | 3525 | TARRY LONG LAST. INDIVIDUALIZED CHLORINATING 8OZ. TABLETS | Trichloro-s-triazinetrione—(99.3%).
3525-121 | 3525 | ONCE-A-WEEK TARRY CHLORINATING TABLETS | Trichloro-s-triazinetrione—(63%).
3525-122 | 3525 | WINTER CHLOR 56 CHLORINATING TABLETS | Trichloro-s-triazinetrione—(63%).
3525-123 | 3525 | WINTER-CHLOR CHLORINATING TABLETS | Trichloro-s-triazinetrione—(99.3%).
3525-124 | 3525 | COASTAL HOT TUBS AND SPAS LONG-LASTING CHLORINATING ½ OZ. CHLORINATING TABLET | Trichloro-s-triazinetrione—(99.3%).
3525-128 | 3525 | COASTAL TNT SHOCK | Calcium hypochlorite—(50%).
3525-129 | 3525 | COASTAL 7-DAY GIANT CHLORINATING TABLETS | Trichloro-s-triazinetrione—(78%).
3525-130 | 3525 | COASTAL ONCE-A-WEEK METERED CHLORINATING TABLETS | Trichloro-s-triazinetrione—(78%).
3525-131 | 3525 | COASTAL 1” MINI CHLORINATING TABLETS | Trichloro-s-triazinetrione—(78%).
3525-133 | 3525 | 30% NON-FOAMING ALGAECIDE | Poly(oxy-1,2-ethanediyl(dimethylimino)-1,2-ethanediyl(dimethylimino)-1,2-ethanediyl dichloride)—(30%).
3525-134 | 3525 | TAB-A-DAY DAILY CHLORINATING TABLETS | Trichloro-s-triazinetrione—(63%).
3525-140 | 3525 | SENTRY DRY CHLORINATING CHEMICAL | Calcium hypochlorite—(67%).
3525-141 | 3525 | POOL TROL COPPER ALGAECIDE | Copper triethanolamine complex—(23.5%).
3525-143 | 3525 | CCC-90 CHLORINATING GRANULES | Sodium dichloro-s-triazinetrione—(99%).
3525-144 | 3525 | CCC-56 CHLORINATING GRANULES | Sodium dichloroisocyanurate dihydrate—(99%).
3525-145 | 3525 | MINI 1 SLOW DISSOLVING BROMINATING TABLETS | 2,4-Imidazolidinedione, 1-bromo-3-chloro-5,5-dimethyl-—(98%).
3525-146 | 3525 | ALL-IN-ONE CHLORINATING TABLETS | Copper sulfate pentahydrate—(1.5%), Trichloro-s-triazinetrione—(93.5%).
3525-147 | 3525 | NU-CLO QUICK DISSOLVING CHLORINATING TABLETS | Trichloro-s-triazinetrione—(66%).
3525-148 | 3525 | LEEDS ALL CHLORINATING GRANULES | Trichloro-s-triazinetrione—(66%).
3525-149 | 3525 | NU CLO SLOW DISSOLVING CHLORINATING TABLETS | Trichloro-s-triazinetrione—(99%).
3525-150 | 3525 | NU-CLO SHOCK | Trichloro-s-triazinetrione—(81%).
4959-20003 | 4959 | LIQUID CHLORINATION SANITIZER | Sodium hypochlorite—(9.2%).
6198-3 | 6198 | B-T-F CHLOROMELAMINE SANITIZER | Trichloromelamine—(9.5%).
6198-4 | 6198 | Q. A. CONCENTRATED SOLUTION | Alkyl* dimethyl benzyl ammonium chloride *(60%C14, 30%C16, 5%C18, 5%C12)—(5%), Alkyl* dimethyl ethylbenzyl ammonium chloride *(68%C12, 32%C14)—(5%).
6198-12 | 6198 | B-T-F IODOPHOR SANITIZER | Oxirane, methyl-, polymer with oxirane, monobutyl ether, compd. with iodine—(12.54%).
6198-13 | 6198 | B-T-F CHLOR-TAB DISINFECTANT-SANITIZER | Sodium dichloroisocyanurate dihydrate—(25%).
7698-17 | 7698 | ROLYX-PRO | Gardona (cis-isomer)—(.44%).
7698-18 | 7698 | ROLYX-MAX | Gardona (cis-isomer)—(.68%).
7698-26 | 7698 | SWEETLIX FLY CONTROL RABON MINERAL/VITAMIN MOLASSES BLOCK | Tetrachlorvinphos—(.494%).
7698-27 | 7698 | SWEETLIX 16:8 FREE CHOICE MINERAL WITH RABON ORAL LARVICIDE | Gardona (cis-isomer)—(.494%).
7698-29 | 7698 | V.M.S. PEST-A-SIDE BLOCK W/RABON | Gardona (cis-isomer)—(.3%).
7698-30 | 7698 | ENPROAI FLY CONTROL BLOCK WITH RABON ORAL LARVICIDE | Gardona (cis-isomer)—(.3%).
9009-17 | 9009 | ONLINE 825 | Sodium hypochlorite—(8.25%).
9404-80 | 9404 | WEED & FEED WITH 0.57% ATRAZINE FOR ST. AUGUSTINE LAWNS | Atrazine—(.55%).
9404-94 | 9404 | SUNNILAND XX-X-X LAWN FOOD WITH 0.069% BIFENTHRIN INSECTICIDE | Bifenthrin—(.069%).
11773-3 | 11773 | CORNBELT 4 LB. LOVOL ESTER | 2,4-D, 2-ethylhexyl ester—(66%).
11773-20 | 11773 | CORNBELT METRO | 2,4-D, 2-ethylhexyl ester—(87.2%).
20729-20001 | 20729 | KLENS-CHLOR | Sodium hypochlorite—(12.5%).
21165-24 | 21165 | PYRANHA AQUEOUS 30-3 | Piperonyl butoxide—(30%), Pyrethrins—(3%).
21165-39 | 21165 | PYRANHA INSECTICIDES EQUINE SPRAY AND WIPE CONCENTRATE | Permethrin—(.6%), Piperonyl butoxide—(3%), Pyrethrins—(.3%).
21165-50 | 21165 | PYRANHA INSECTICIDES AQUEOUS EQUINE SPRAY | Permethrin—(.1%), Piperonyl butoxide—(.5%), Pyrethrins—(.05%).
21165-63 | 21165 | RITTER'S FLEA & TICK SPRAY | MGK 264—(.5%), MGK 326—(.5%), Piperonyl butoxide—(1.5%), Pyrethrins—(.15%).
21268-18 | 21268 | BLUE SHIELD ALGICIDE | Alkyl* dimethyl benzyl ammonium chloride *(60%C14, 30%C16, 5%C18, 5%C12)—(2.49%), Dialkyl* methyl benzyl ammonium chloride *(60% C14, 30% C16, 5% C18, 5% C12)—(.01%).
21268-22 | 21268 | Blue Shield Shock Treatment | Sodium hypochlorite—(12.5%).
32273-10 | 32273 | Behr Sanitizing Paint | Cupric oxide—(.351%).
33427-30 | 33427 | Aceto Buprofezin Technical | Buprofezin—(99.1%).
33427-35 | 33427 | Dicrotophos Technical | Dicrotophos—(85%).
34370-3 | 34370 | Ultimate Zapper Wasp & Hornet Spray II | Permethrin—(.375%), Piperonyl butoxide—(.75%), Tetramethrin—(.15%).
35900-22 | 35900 | X-462 BACTERIOSTATIC SILVER IMPREGNATED ACTIVATED CARBON | Silver—(1.05%).
35900-23 | 35900 | NEXT GENERATION | Silver—(.1%).
36638-28 | 36638 | NOMATE TPW MEC | (E)-4-Tridecen-l-yl acetate—(19.4%), (Z)-4-Tridecen-1-yl acetate—(.6%).
36864-1 | 36864 | CHIGG AWAY | Sulfur—(10%).
38104-4 | 38104 | CHEM-TAB AT-8 | Alkyl* dimethyl benzyl ammonium chloride *(60%C14, 30%C16, 5%C18, 5%C12)—(40%).
41619-1 | 41619 | LIQUID CHLORINATING PRODUCT | Sodium hypochlorite—(12.5%).
41971-1 | 41971 | HYPOCHLORITE SOLUTION | Sodium hypochlorite—(12.5%).
42519-38 | 42519 | LBG-W-MUP | Dipotassium phosphite (K2HPO3)—(54.5%).
42882-2 | 42882 | Epibloc | alpha-Chlorohydrin—(1%).
46579-3 | 46579 | PYRA-FOG I CONTACT AND SPACE SPRAY | MGK 264—(3%), Piperonyl butoxide—(2%), Pyrethrins—(1%).
46579-6 | 46579 | PYRA—FOG 5 | MGK 264—(1.67%), Piperonyl butoxide—(1%), Pyrethrins—(.5%).
46779-1 | 46779 | SODIUM FLUOROACETATE (COMPOUND 1080) LIVESTOCK PROTECTION COLLAR | Sodium fluoroacetate—(1%).
47265-1 | 47265 | ORIENTAL FRUIT MOTH TECHNICAL PHEROMONE | (E)-8-Dodecen-1-yl acetate—(5.9%), (Z)-8-Dodecen-1-yl acetate—(92%), Dodecen-1-ol, (Z)-—(1%).
47265-2 | 47265 | CODLING MOTH TECHNICAL PHEROMONE | CheckMate Technical Pheromone—(91.7%).
47265-5 | 47265 | E-11/Z-11-TETRADECENYL ACETATE TECHNICAL PHEROMONE | (E)-11-Tetradecen-1-ol acetate—(75.1%), (Z)-11-Tetradecenyl acetate—(23.14%).
48234-7 | 48234 | CONSYST WDG | Chlorothalonil—(50%), Thiophanate-methyl—(16.66%).
48234-8 | 48234 | REGALKADE 30 | Prodiamine—(.3%).
48234-13 | 48234 | SYSTEC 1998 WDG | Thiophanate-methyl—(85%).
49538-6 | 49538 | Spectrum-17-A | Copper sulfate pentahydrate—(7.88%).
51219-7 | 51219 | Actabs | Alkyl* dimethyl benzyl ammonium chloride *(60%C14, 30%C16, 5%C18, 5%C12)—(10%), Alkyl* dimethyl ethylbenzyl ammonium chloride *(68%C12, 32%C14)—(10%).
51311-4 | 51311 | BLACK JACK ROACH BAITS | Propoxur—(2%).
52484-5 | 52484 | BIOCLEAR 1430 ANTIMICROBIAL | Alkyl* dimethyl benzyl ammonium chloride *(50%C14, 40%C12, 10%C16)—(3%), Glutaraldehyde—(14%).
53575-33 | 53575 | ISOMATE LBAM PLUS | (E)-11-Tetradecen-1-ol acetate—(67.15%), 9,11-tetradecadien-1-ol, acetate, (9E, 11Z)-—(2.74%).
54564-2 | 54564 | KLEEN POOL ALGICIDE | Copper sulfate pentahydrate—(9.08%).
54998-1 | 54998 | 3” TABLETS | Trichloro-s-triazinetrione—(99%).
54998-4 | 54998 | FORMULA 500 | Poly(oxy-1,2-ethanediyl(dimethylimino)-1,2-ethanediyl(dimethylimino)-1,2-ethanediyl dichloride)—(40%).
54998-6 | 54998 | MINI-TABS | Trichloro-s-triazinetrione—(99%).
54998-14 | 54998 | POOLBOSS GRANULAR | Sodium dichloroisocyanurate dihydrate—(99%).
54998-20005 | 54998 | POOL SHOCK | Calcium hypochlorite—(65%).
55467-16 | 55467 | TENKOZ ETHEPHON 6 PGR | Ethephon—(55.4%).
56336-1 | 56336 | CHECKMATE (R) PBW | 7,11-Hexadecadien-1-ol, acetate, (E,Z)-—(40.4%), 7,11-Hexadecadien-1-ol, acetate, (Z,Z)-—(40.4%).
56336-19 | 56336 | CONSEP SPR5M PBW SPRAYABLE BEAD PHEROMONE | 7,11-Hexadecadien-1-ol, acetate, (E,Z)-—(11.195%), 7,11-Hexadecadien-1-ol, acetate, (Z,Z)-—(11.195%).
56336-25 | 56336 | CHECKMATE OLR-F OMNIVOROUS LEAFROLLER (PLAYTONIA STULTANA) | (E)-11-Tetradecen-1-ol acetate—(20.57%), (Z)-11-Tetradecenyl acetate—(3.19%).
56336-46 | 56336 | CHECKMATE OFM-FS | (E)-8-Dodecen-1-yl acetate—(1.26%), (Z)-8-Dodecen-1-yl acetate—(18.73%), Dodecen-1-ol, (Z)-—(.23%).
56336-49 | 56336 | CHECKMATE CM-OFM DUEL | (E)-8-Dodecen-1-yl acetate—(.77%), (Z)-8-Dodecen-1-yl acetate—(12%), CheckMate Technical Pheromone—(17.54%), Dodecen-1-ol, (Z)-—(.13%).
56336-52 | 56336 | CERTIS TECHNICAL OLIVE FLY PHEROMONE | 1,7-Dioxaspiro [5.5] undecane—(97.6%).
56336-56 | 56336 | CHECKMATE VMB DISPENSER | 2-Butenoic acid, 3-methyl-, 5-methyl-2-(1-methylethenyl)-4-hexenyl ester—(5.91%).
56783-1 | 56783 | DAMMINIX | Permethrin—(7.4%).
56783-2 | 56783 | MITE ARREST | Permethrin—(7.4%).
57559-1 | 57559 | KENNECOTT POTATO VINE SULFURIC ACID DESICCANT | Sulfuric acid—(93%).
58007-9 | 58007 | 3M ULTRATHON INSECT REPELLENT PUMP | Diethyl toluamide—(19%).
58945-1 | 58945 | DORMANT FLOWABLE EMULSION INSECTICIDE | Mineral oil—includes paraffin oil from 063503—(80%).
59106-1 | 59106 | BIO CLEAR 1000 | 2,2-Dibromo-3-nitrilopropionamide—(98%).
59106-5 | 59106 | DBNPA TECHNICAL | 2,2-Dibromo-3-nitrilopropionamide—(98%).
59106-6 | 59106 | BIO-CLEAR 2000 | 2,2-Dibromo-3-nitrilopropionamide—(20%).
59106-7 | 59106 | BIO-CLEAR 5000 | 2,2-Dibromo-3-nitrilopropionamide—(5%).
59106-8 | 59106 | BIOCLEAR G50 ANTIMICROBIAL | Glutaraldehyde—(51.1%).
59657-2 | 59657 | COLOR RIPE/WITCHAWAY | Ethylene—(99.9%).
59807-16 | 59807 | OHP CHIPCO 26019 | Iprodione—(50%).
59807-17 | 59807 | DECATHLON 20 WP | Cyfluthrin—(20%).
59807-18 | 59807 | DISCUS L | Cyfluthrin—(.7%), Imidacloprid—(2.94%).
59825-1 | 59825 | Mykon AML | Tetraacetylethylenediamine—(92%).
62531-1 | 62531 | CHLOROPICRIN | Chloropicrin—(99.3%).
62531-2 | 62531 | ASHTA GOLD | Chloropicrin—(99.3%).
62531-3 | 62531 | ASHTA 14-01 | Chlorine—(99.5%).
64137-35 | 64137 | MELOCON WG | Purpureocillium lilacinum strain 251—(6%).
64910-1 | 64910 | BOX | Boron sodium oxide (B8Na2O13) (12008-41-2)—(100%).
65656-4 | 65656 | GLYPHOSATE 41% | Glyphosate, isopropylamine salt—(41%).
65656-5 | 65656 | GLYPHOSATE 62% MC | Glyphosate, isopropylamine salt—(62%).
65656-6 | 65656 | GLUFOSINATE 280 HERBICIDE | Glufosinate—(24.5%).
65787-1 | 65787 | AMUCHINA | Sodium hypochlorite—(1.02%).
65987-3 | 65987 | DEADPEST | Phenothrin—(2%).
66397-4 | 66397 | MCP TRICHLOR GRANULAR | Trichloro-s-triazinetrione—(99.5%).
66750-3 | 66750 | DELSACLOR GR 90 | Trichloro-s-triazinetrione—(99.8%).
66750-4 | 66750 | ISODELSA 200 | Trichloro-s-triazinetrione—(98.5%).
66784-1 | 66784 | PRONTECH | Alkyl* dimethyl benzyl ammonium chloride *(60%C14, 30%C16, 5%C18, 5%C12)—(40%).
66784-2 | 66784 | TIMSEN | Alkyl* dimethyl benzyl ammonium chloride *(60%C14, 30%C16, 5%C18, 5%C12)—(40%).
67503-2 | 67503 | MEDACHIEVE MULTI-PURPOSE 10% E.C. | Permethrin—(10%).
68186-1 | 68186 | DETUR | Jojoba oil—(97.5%).
68719-2 | 68719 | VITA GROW READY TO USE ROOTING COMPOUND | 1-Naphthaleneacetic acid—(.076%), Indole-3-butyric acid—(.133%).
69132-1 | 69132 | PURAC SANILAC | L-Lactic acid—(80%).
69132-2 | 69132 | PURAC SANILAC 88 | L-Lactic acid—(88%).
69132-4 | 69132 | PURAC Toilet Bowl Cleaner | L-Lactic acid—(5%).
69151-1 | 69151 | PAROX HOSPITAL DISINFECTANT | Sodium chlorite—(10%).
69340-4 | 69340 | EOGAS AN-2014 | Ethylene oxide—(96%).
69361-37 | 69361 | TEBUCONAZOLE 45DF FUNGICIDE | Tebuconazole—(45%).
69407-1 | 69407 | FLEA, TICK AND EAR MITE TREATMENT | Piperonyl butoxide—(1.5%), Pyrethrins—(.15%).
69526-15 | 69526 | PC HERBICIDE CONCENTRATE PLUS | 2,4-D, dimethylamine salt—(.885%), Dicamba, dimethylamine salt—(.109%), MCPP-P, DMA salt—(.573%).
69766-1 | 69766 | GIBBMAX | Gibberellic acid—(4%).
69766-2 | 69766 | KALGIBB | Gibberellic acid—(93%).
70062-6 | 70062 | BABOLNA BIO METHOPRENE ANT KILLER BAIT | Methoprene—(.5%).
70062-10 | 70062 | (S)-METHOPRENE TECHNICAL | S-Methoprene—(95.5%).
70209-1 | 70209 | PREVENTOL S600-L | Octhilinone—(.3%).
70305-2 | 70305 | PARAGON MOTH BARS | Paradichlorobenzene—(99.75%).
70305-3 | 70305 | PARAGON MOTH FLAKES | Paradichlorobenzene—(99.9%).
70385-8 | 70385 | PROFESSIONAL STRENGTH MULTI-PURPOSE ANTIBACTERIAL CLEANER | 1-Decanaminium, N,N-dimethyl-N-octyl-, chloride—(.025%), 1-Decanaminium, N-decyl-N,N-dimethyl-, chloride—(.015%), 1-Octanaminium, N,N-dimethyl-N-octyl-, chloride—(.01%), Alkyl* dimethyl benzyl ammonium chloride *(50%C14, 40%C12, 10%C16)—(.034%).
70804-1 | 70804 | ULTRAFLOC ALGAESOLVE II | Copper sulfate pentahydrate—(25%).
71297-18 | 71297 | MANUFACTURING-USE PRODUCT—PTNC | 1-Methylcyclopropene—(2%).
71332-5 | 71332 | EPL 0.25 SILVER/CERAMIC FILTER MATERIAL | Silver—(.25%).
71406-1 | 71406 | WOCOSEN 50 SL | Propiconazole—(4.5%).
71406-5 | 71406 | DAZOMET PELLETS | Dazomet—(99%).
71653-1 | 71653 | COBRA WRAP | Copper naphthenate—(17.8%).
71653-2 | 71653 | COBRA ROD | Boric acid—(4.7%), Boron sodium oxide (B8Na2O13) (12008-41-2)—(90.6%), Copper hydroxide—(2.9%).
71653-4 | 71653 | COBRA CRUSH MDT | Boric acid—(4.7%), Boron sodium oxide (B8Na2O13), tetrahydrate (12280-03-4)—(83.3%), Copper hydroxide—(8.8%).
71653-6 | 71653 | GENICS CUB | Boric acid—(.89%), Boron sodium oxide (B8Na2O13), tetrahydrate (12280-03-4)—(9.1%), Copper hydroxide—(.99%).
71653-7 | 71653 | GENICS GEL WRAP | Boric acid—(.85%), Boron sodium oxide (B8Na2O13), tetrahydrate (12280-03-4)—(8.65%), Copper hydroxide—(.94%).
71653-8 | 71653 | BO-ROD | Boron sodium oxide (B8Na2O13), tetrahydrate (12280-03-4)—(100%).
71653-9 | 71653 | CUB 20 | Boron sodium oxide (B8Na2O13), tetrahydrate (12280-03-4)—(16.83%), Copper hydroxide—(3.2%).
71653-10 | 71653 | CUB 2-20 | Boron sodium oxide (B8Na2O13), tetrahydrate (12280-03-4)—(19.98%), Copper hydroxide—(3.8%).
71653-12 | 71653 | CURAP 22 | Borax (B4Na2O7.10H2O)—(43.5%), Copper hydroxide—(3.1%).
71653-14 | 71653 | CanBor | Boron sodium oxide (B8Na2O13), tetrahydrate (12280-03-4)—(98%).
71653-16 | 71653 | Cobra I-Glass Wrap | Boric acid—(4.7%), Boron sodium oxide (B8Na2O13), tetrahydrate (12280-03-4)—(90.6%), Copper hydroxide—(2.9%).
71653-18 | 71653 | CUNAP 8 | Copper naphthenate—(68%).
72265-4 | 72265 | Frontiersman Bear Attack Deterrent II | Capsaicin—(2%).
72500-17 | 72500 | KAPUT RODENT FLEA CONTROL BAIT | Imidacloprid—(.025%).
72959-3 | 72959 | FUMITOXIN BAGS | Aluminum phosphide—(55%).
73479-4 | 73479 | PARAMOUNT NOW/PTB | (Z,Z)-11,13-Hexadecadienal—(.6667%), 5-Decen-1-ol, (E)-—(5.33%), 5-Decen-1-ol, acetate, (E)-—(21.34%).
73479-5 | 73479 | PARAMOUNT AEROSOL NOW/CM | (Z,Z)-11,13-Hexadecadienal—(.62%), CheckMate Technical Pheromone—(24.23%).
73479-7 | 73479 | PARAMOUNT AEROSOL NOW/PTB2 | (Z,Z)-11,13-Hexadecadienal—(.6667%), 5-Decen-1-ol, (E)-—(3.3244%), 5-Decen-1-ol, acetate, (E)-—(13.3333%).
73667-4 | 73667 | MB 2002 G | Copper as elemental—(4%).
73711-5 | 73711 | BIOLENE BX | Ethylene oxide—(100%).
74267-1 | 74267 | PRO-MIX WITH BIOFUNGICIDE | Bacillus amyloliquefaciens MBI 600 (antecedent Bacillus subtilis MBI 600)—(.001%).
74559-6 | 74559 | OXY-RES (CONCENTRATE) | Hydrogen peroxide—(4.25%).
74559-8 | 74559 | Accel 5 RTU | Hydrogen peroxide—(.5%).
74559-11 | 74559 | OXY-5 (Concentrate) Disinfectant Cleaner | Hydrogen peroxide—(7.6%).
74559-12 | 74559 | OXY 5 Concentrate Disinfectant Cleaner | Hydrogen peroxide—(7.6%).
75459-1 | 75459 | ANTIBACTERIAL WIPE | Alkyl* dimethyl benzyl ammonium chloride *(60%C14, 30%C16, 5%C18, 5%C12)—(.5%), Alkyl* dimethyl ethylbenzyl ammonium chloride *(68%C12, 32%C14)—(.5%).
75661-1 | 75661 | COLD-STER | Calcium oxide—(86.8%).
79533-7 | 79533 | Coleman Insect Repellent | Diethyl toluamide—(40%).
81242-1 | 81242 | YGIENE 206 | Ethaneperoxoic acid—(.6%), Hydrogen peroxide—(6.14%).
81927-29 | 81927 | ALLIGARE EVERETT HERBICIDE | 2,4-D, butoxyethyl ester—(34.4%), Triclopyr, butoxyethyl ester—(16.5%).
81927-67 | 81927 | Alligare FLUMI BG | Flumioxazin—(51%).
81927-76 | 81927 | Alligare Imazapyr 75 WDG | Imazapyr—(75%).
81927-87 | 81927 | Alligare Sulfentrazone 75WDG | Sulfentrazone—(75%).
81936-1 | 81936 | WEED WORKS WEED & GRASS KILLER | Vinegar—(20%).
81951-1 | 81951 | KILLZ-ALL 60 ALUMINUM PHOSPHIDE FUMIGANT TABLETS | Aluminum phosphide—(60%).
81951-2 | 81951 | KILLZ-ALL 60 ALUMINUM PHOSPHIDE FUMIGANT PELLETS | Aluminum phosphide—(60%).
82012-1 | 82012 | ANTIMICROBIAL COPPER ALLOYS—GROUP I | Copper as elemental—(96.2%).
82012-2 | 82012 | ANTIMICROBIAL COPPER ALLOYS—GROUP II | Copper as elemental—(91.3%).
82012-4 | 82012 | ANTIMICROBIAL COPPER ALLOYS—GROUP IV | Copper as elemental—(73%).
82012-6 | 82012 | ANTIMICROBIAL COPPER ALLOYS GROUP VI | Copper as elemental—(62%).
82012-7 | 82012 | HVAC ANTIMICROBIAL COPPER ALLOY SURFACE MATERIALS | Copper as elemental—(96.2%).
82123-1 | 82123 | ACTIVEGUARD MATTRESS LINER | Permethrin—(1.64%).
82123-2 | 82123 | ACTIVEGUARD FABRIC | Permethrin—(1.64%).
82796-1 | 82796 | NAPCO BLEACH | Sodium hypochlorite—(10%).
82796-3 | 82796 | 12.5% NAPCO BLEACH | Sodium hypochlorite—(12.5%).
82810-1 | 82810 | DERMAEGIS LIPODEET INSECT REPELLENT 302 | Diethyl toluamide—(30%).
83168-1 | 83168 | Sodium Hypochlorite 12.5% | Sodium hypochlorite—(12.5%).
83190-7 | 83190 | Liquid Harvest Concentrated Indoor & Outdoor Insect Control | Bifenthrin—(7.9%).
83190-8 | 83190 | LIQUID HARVEST QUINCLORAC | QUINCLORAC, DIMETHYLAMINE SALT—(18.92%).
83451-24 | 83451 | BELLACIDE 370 | Poly(oxy-1,2-ethanediyl(dimethylimino)-1,2-ethanediyl(dimethylimino)-1,2-ethanediyl dichloride)—(60%).
83933-2 | 83933 | BIOGUARD TRI-BOR PASTE | Boric acid—(10%), Sodium borate pentahydrate—(45%), Zinc borate (3ZnO, 2B03, 3.5H2O; mw 434.66)—(5%).
83997-5 | 83997 | ACQ 2102 | Alkyl* dimethyl benzyl ammonium chloride *(67%C12, 25%C14, 7%C16, 1%C18)—(4.6%), Copper ethanolamine complex—(21.4%).
84059-19 | 84059 | MBI-011 TGAI | Sarmentine ((E,E)-1-(1-oxo-2,4-decadienyl) pyrrolidine—(99.3%).
84059-20 | 84059 | MBI-011 EP | Sarmentine ((E,E)-1-(1-oxo-2,4-decadienyl) pyrrolidine—(50%).
84069-1 | 84069 | SUMMERSET ALLDOWN CONCENTRATE | Citric acid—(14%), Vinegar—(23%).
84069-2 | 84069 | SUMMERSET ALLDOWN HERBICIDE | Citric acid—(6%), Vinegar—(8%).
84149-1 | 84149 | BLUE EXCESS DICHLOR SHOCK | Sodium dichloroisocyanurate dihydrate—(99%).
84149-2 | 84149 | BLUE EXCESS TRICHLOR SHOCK | Trichloro-s-triazinetrione—(99%).
84149-3 | 84149 | BLUE EXCESS CHLORINATING TABLETS | Trichloro-s-triazinetrione—(99%).
84189-1 | 84189 | PRODUCT EP 1% | Silver chloride—(.2%).
84189-2 | 84189 | PRODUCT EP 10% | Silver chloride—(1.75%).
84396-30 | 84396 | KILLER FOR ICE PLANT WEEDS | Magnesium chloride—(20.4%).
84396-43 | 84396 | RODSPRAY FLY, COCKROACH, AND ANT KILLER | D-Limonene—(4.015%).
85348-1 | 85348 | VSC 7200 | 1-Octadecanaminium, N,N-dimethyl-N-(3-(trimethoxysilyl)propyl)-, chloride—(72%).
85348-2 | 85348 | BI-OME AM5 | 1-Octadecanaminium, N,N-dimethyl-N-[3-(trihydroxysilyl)propyl],chloride—(3.3%).
85493-2 | 85493 | REPELLEX SYSTEMIC TABLET | Capsaicin—(.3%).
85493-3 | 85493 | REPELLEX SYSTEMIC GRANULAR | Capsaicin—(.3%).
86014-1 | 86014 | THYMOL MATERIALS PRESERVATIVES | Thymol—(97.8%).
86064-1 | 86064 | ARMORTECH CLT 825 DF | Chlorothalonil—(82.5%).
86064-2 | 86064 | ARMOR TECH CLT 720 FL | Chlorothalonil—(54%).
86064-3 | 86064 | ARMOR TECH PGR 113 MC | Trinexapac-ethyl—(11.3%).
86064-4 | 86064 | ARMOR TECH PPZ 143 MC | Propiconazole—(14.3%).
86064-5 | 86064 | ARMORTECH (R) THREESOME(TM) | 2,4-D, dimethylamine salt—(30.56%), Dicamba, dimethylamine salt—(2.77%), MCPP-P, DMA salt—(8.17%).
86064-6 | 86064 | ArmorTech ZOXY 2F | Azoxystrobin—(22.9%).
86064-7 | 86064 | ArmorTech IMD 2F | Imidacloprid—(21.4%).
86064-8 | 86064 | ArmorTech TEB 360F | Tebuconazole—(38.7%).
86064-9 | 86064 | ArmorTech TM 462 F | Thiophanate-methyl—(46.2%).
86064-10 | 86064 | ArmorTech TEBU 3.6 F | Tebuconazole—(38.7%).
86106-1 | 86106 | PG721ST | Silver Ion (Ag1+)—(1.4%).
86197-3 | 86197 | FSTI SODIUM HYPOCHLORITE 12.5% | Sodium hypochlorite—(12.5%).
86197-4 | 86197 | FSTI SODIUMHYPOCHLORITE 10% | Sodium hypochlorite—(10%).
86277-1 | 86277 | FARMWAY GLYPHOSATE 62% MANUFACTURING CONCENTRATE | Glyphosate, isopropylamine salt—(62%).
86277-2 | 86277 | FARMWAY GLYPHOSATE TECHNICAL | Glyphosate—(98.5%).
86277-3 | 86277 | FARMWAY GLYPHOSATE 41% SL | Glyphosate, isopropylamine salt—(41%).
86583-3 | 86583 | METHYL ANTHRANILATE TECHNICAL | Methyl anthranilate—(99.94%).
86583-4 | 86583 | ECOBIRD 4.0 | Methyl anthranilate—(40%).
86583-5 | 86583 | EcoBird 14.5 | Methyl anthranilate—(14.5%).
86829-1 | 86829 | MacroTech Copper Ion Generator | Copper as elemental—(99.8%).
87134-1 | 87134 | SC-5 | Sodium chlorite—(7.3%).
87134-2 | 87134 | SC-8 | Sodium chlorite—(8.3%).
87326-1 | 87326 | BANOLE HV | Mineral oil—includes paraffin oil from 063503—(100%).
87358-1 | 87358 | STAY FRESH ANTIMICROBIAL | Hydrogen peroxide—(50%).
87518-3 | 87518 | (HSP2O) PRO | Hypochlorous Acid—(.105%).
87656-3 | 87656 | Bio-Spear Sanitizing Wipes | 1-Decanaminium, N-decyl-N,N-dimethyl-, chloride—(.9%), 1-Octadecanaminium,N,N-dimethyl-N-[3-(trihydroxysilyl)propyl],chloride—(.54%).
87703-2 | 87703 | 8 IN 1 MITE & LICE BIRD SPRAY | Piperonyl butoxide—(.3%), Pyrethrins—(.03%).
87703-3 | 87703 | FLEA AND TICK SPRAY FOR SMALL ANIMALS | Piperonyl butoxide—(.6%), Pyrethrins—(.06%).
87769-3 | 87769 | OXYFLUORFEN 2E HERBICIDE | Oxyfluorfen—(22.3%).
87769-4 | 87769 | Oxyfluorfen Technical | Oxyfluorfen—(99%).
88142-2 | 88142 | SAN-SSCP820 | Silver Ion (Ag1+)—(6%).
88347-1 | 88347 | PHYLLOM SDS-502 MP | Bacillus thuringiensis subspecies galleriea, strain SDS-502, fermentation solids, spores and insecticidal toxins—(90%).
88347-2 | 88347 | GRUBGONE! G | Bacillus thuringiensis subspecies galleriea, strain SDS-502, fermentation solids, spores and insecticidal toxins—(9%).
88347-3 | 88347 | PHYLLOM BEETLEGONE! BIOLOGICAL INSECTICIDE | Bacillus thuringiensis subspecies galleriea, strain SDS-502, fermentation solids, spores and insecticidal toxins—(76.5%).
88714-5 | 88714 | K-BROM G | 2,4-Imidazolidinedione, 1-bromo-3-chloro-5,5-dimethyl-—(98%).
88714-6 | 88714 | K-BAC 1000 | 2,2-Dibromo-3-nitrilopropionamide—(98%).
88760-4 | 88760 | PLASMA NEEM OIL (AZADIRACHTIN 3000 PPM) BIOLOGICAL INSECTICIDE | Neem oil (See Kerry Leifer. No Inert Use without his clearance.)—(100%).
88999-1 | 88999 | SANITECT | 1-Octadecanaminium, N,N-dimethyl-N-(3-(trimethoxysilyl)propyl)-, chloride—(72%).
88999-2 | 88999 | ALGAECIDE | Poly(oxy-1,2-ethanediyl(dimethylimino)-1,2-ethanediyl(dimethylimino)-1,2-ethanediyl dichloride)—(6%).
88999-3 | 88999 | ALGAECIDE 4.5 | Poly(oxy-1,2-ethanediyl(dimethylimino)-1,2-ethanediyl(dimethylimino)-1,2-ethanediyl dichloride)—(4.5%).
88999-4 | 88999 | PEROXY TECH GRANULAR | Sodium percarbonate—(42.5%).
89266-1 | 89266 | LUMINORE COPPER TOUCH ANTIMICROBIAL SURFACES | Copper as elemental—(85%).
89266-2 | 89266 | LuminOre CopperTouch Antimicrobial Copper Alloy Surfaces | Copper as elemental—(62.5%).
89816-3 | 89816 | MEBROM 70-30 | Chloropicrin—(30%), Methyl bromide (NO INERT USE)—(70%).
89867-2 | 89867 | AIRGAS SULFUR DIOXIDE | Sulfur dioxide—(99.9%).
90098-1 | 90098 | AM601 Pod | TRANSFLUTHRIN—(6%).
90098-3 | 90098 | LN3 Slug and Snail Killer | Sodium ferric ethylenediaminetetraacetate—(6%).
90271-1 | 90271 | PCS 7000 | Sodium hypochlorite—(.735%).
90287-1 | 90287 | MAQUAT 25.6-PDX | Alkyl* dimethyl benzyl ammonium chloride *(60%C14, 30%C16, 5%C18, 5%C12)—(.625%), Alkyl* dimethyl ethylbenzyl ammonium chloride *(68%C12, 32%C14)—(.625%).
90290-1 | 90290 | COCKROACH KILLER PUTTY | Boric acid—(50%).
91163-2 | 91163 | FourSure | Aspergillus flavus strain TC16F—(.00024%), Aspergillus flavus strain TC35C—(.00024%), Aspergillus flavus strain TC38B—(.00024%), Aspergillus flavus strain TC46G—(.00024%).
91174-1 | 91174 | COPPER CAT LIQUID COPPER | Copper sulfate pentahydrate—(19.7%).
91186-1 | 91186 | MT-SORB MIN-DRI | Copper sulfate pentahydrate—(3.2%).
91197-3 | 91197 | Howler | Pseudomonas chlororaphis strain AFS009.
91243-1 | 91243 | Fortress Mussel Control Systems | Copper as elemental—(99.8%).
91283-9 | 91283 | AXP10.
91283-12 | 91283 | Amoeba EP #2 | Willaertia magna C2c.Maky—(1%).
91283-13 | 91283 | Amoeba EP #1 | Willaertia magna C2c.Maky—(.1%).
91411-3 | 91411 | KOCIDE 101 | Copper hydroxide—(77%).
91411-7 | 91411 | MANKOCIDE FUNGICIDE/BACTERICIDE | Copper hydroxide—(46.1%), Mancozeb—(15%).
91605-5 | 91605 | MCSI Mosquito Trap | Permethrin—(.022%), Pyriproxyfen—(.00031%).
91720-1 | 91720 | In2Mix | Beauveria bassiana GHA—(10%), Pyriproxyfen—(74.03%).
91853-3 | 91853 | ATO CIDE GRANULAR | Potassium silicate—(10%), Sodium percarbonate—(50%), Tetraacetylethylenediamine—(20%).
91899-1 | 91899 | MDF-200 PART A | Alkyl* dimethyl benzyl ammonium chloride *(50%C14, 40%C12, 10%C16)—(3.2%).
91899-2 | 91899 | MDF-200 PART B | Hydrogen peroxide—(7.9%).
92024-3 | 92024 | MicroShield 360 Antibacterial | Dimethyl isopropylaminophenanthrene—(1%).
92029-1 | 92029 | FORTUNE COPPER-COPPER OXIDE POWDER | Cupric oxide—(100%).
92138-1 | 92138 | MITE OUT | Abamectin—(.0012%).
92388-2 | 92388 | Lemi Shine Disinfectant Spray | Citric acid—(1.32%), Hydrogen peroxide—(1.95%), L-Lactic acid—(1.39%).
92393-1 | 92393 | Xypex Bio-San C-500 (Grey) | Copper as elemental—(5.55%), Silver—(.12%).
92413-1 | 92413 | TEVRA FIPRONIL + METHOPRENE SPOT-ON FOR CATS | Fipronil—(9.8%), S-Methoprene—(11.8%).
92413-2 | 92413 | TEVRA FIPRONIL + METHOPRENE SPOT-ON FOR DOGS | Fipronil—(9.8%), S-Methoprene—(8.8%).
92413-7 | 92413 | 4% Deltamethrin Collar for Dogs | Deltamethrin—(4%).
92413-10 | 92413 | TEVRA Imidacloprid + Pyriproxyfen Spot On for Cats | Imidacloprid—(9.1%), Pyriproxyfen—(.46%).
92413-12 | 92413 | TEVRA Permethrin + Methoprene Spot On for Dogs | Permethrin—(45%), S-Methoprene—(1.2%).
92413-13 | 92413 | TEVRA Imidacloprid + Pyriproxyfen Spot On for Dogs | Imidacloprid—(9.1%), Pyriproxyfen—(.46%).
92413-14 | 92413 | TEVRA Deltamethrin + Pyriproxyfen Collar for Dogs | Deltamethrin—(4%), Pyriproxyfen—(.5%).
92654-1 | 92654 | Formula “O“ | Copper sulfate pentahydrate—(1.98%).
92686-1 | 92686 | REXCU-S | Copper sulfate pentahydrate—(19.8%).
92967-5 | 92967 | MOSS AVENGER—MOSS & ALGAE CONTROL | D-Limonene—(23%).
93113-2 | 93113 | DoxyKlor DK5G | Chlorine dioxide—(.05%).
93365-3 | 93365 | MESOTRIONE TECHNICAL 2 | Mesotrione—(98%).
93392-3 | 93392 | Aquaox Disinfectant 1650 | Hypochlorous Acid—(.165%).
93455-1 | 93455 | RAISAN | Chitosan—(2.5%).
93496-2 | 93496 | NEOTERICA PROTECTO 4 | Fipronil—(9.78%), Pyriproxyfen—(2.94%).
93496-3 | 93496 | Neoterica Protecto Delta | Deltamethrin—(4%).
93585-1 | 93585 | Microfex 1425 | Alkyl* dimethyl benzyl ammonium chloride *(50%C14, 40%C12, 10%C16)—(2.5%), Glutaraldehyde—(14%).
93672-1 | 93672 | NEOSAN LABS PART A | Alkyl* dimethyl benzyl ammonium chloride *(50%C14, 40%C12, 10%C16)—(3.2%).
93672-2 | 93672 | NEOSAN LABS PART B | Hydrogen peroxide—(7.9%).
93740-2 | 93740 | LOCAL 20 WEED TERMINATOR | Vinegar—(20%).
93756-1 | 93756 | Purox Bleach | Sodium hypochlorite—(6%).
93756-2 | 93756 | TECHNI BLEACH | Sodium hypochlorite—(6%).
93756-3 | 93756 | Victoria Bay | Sodium hypochlorite—(%).
93756-4 | 93756 | Stern X | Sodium hypochlorite—(6%).
93908-1 | 93908 | ENVIROLYTE O & G | Hypochlorous Acid—(.046%).
94196-3 | 94196 | MY SHIELD HOSPITAL DISINFECTANT | 1-Decanaminium, N,N-dimethyl-N-octyl-, chloride—(.144%), 1-Decanaminium, N-decyl-N,N-dimethyl-, chloride—(.0864%), 1-Octadecanaminium, N,N-dimethyl-N-(3-(trimethoxysilyl)propyl)-, chloride—(.792%), 1-Octanaminium, N,N-dimethyl-N-octyl-, chloride—(.
94196-4 | 94196 | MY SHIELD BROAD SPECTRUM DISINFECTANT | 1-Decanaminium, N,N-dimethyl-N-octyl-, chloride—(.3%), 1-Decanaminium, N-decyl-N,N-dimethyl-, chloride—(.18%), 1-Octadecanaminium, N,N-dimethyl-N-(3-(trimethoxysilyl)propyl)-, chloride—(.792%), 1-Octanaminium, N,N-dimethyl-N-octyl-, chloride—(.12%.
94278-4 | 94278 | Ethephon 75% MUP | Ethephon—(75%).
94396-2 | 94396 | SKYLARK | Tebuconazole—(38.7%).
94396-3 | 94396 | T-BIRD 4.5L | Thiophanate-methyl—(46.2%).
94396-4 | 94396 | AVOCET AQUATIC HERBICIDE | Glyphosate, isopropylamine salt—(53.8%).
94396-5 | 94396 | KESTREL MEX | Propiconazole—(14.3%).
94396-6 | 94396 | PEREGRINE | Chlorothalonil—(50%), Thiophanate-methyl—(16.66%).
94396-7 | 94396 | FIREBIRD PRO | Bifenthrin—(7.9%).
94396-8 | 94396 | IMIGOLD 75 WSP | Imidacloprid—(75%).
94396-9 | 94396 | HAWK-I 2L | Imidacloprid—(21.4%).
94396-10 | 94396 | GOLDWING | Trinexapac-ethyl—(11.3%).
94396-11 | 94396 | RAVEN | Iprodione—(23.3%).
94396-13 | 94396 | GULLWING | Imazapyr, isopropylamine salt—(27.77%).
94396-14 | 94396 | KRAKEN | Triclopyr, triethylamine salt—(44.4%).
94396-15 | 94396 | KNIGHTHAWK | Prodiamine—(65%).
94396-16 | 94396 | HAWK-I N/O 60WSP | Imidacloprid—(60%).
94396-17 | 94396 | HAWK-I N/O 2L | Imidacloprid—(21.4%).
94396-18 | 94396 | AVOCET PLX | Glyphosate, isopropylamine salt—(53.8%).
94396-19 | 94396 | VIREO 2E | Metalaxyl—(23%).
94396-20 | 94396 | MERLIN ORNAMENTAL | Abamectin—(1.9%).
94396-21 | 94396 | STARFIGHTER L | Oxadiazon—(34.1%).
94396-22 | 94396 | ROOK 4L | Quinclorac—(40%).
94396-23 | 94396 | PHOENIX THRASHER | Ethofumesate—(42%).
94396-24 | 94396 | SISKIN | Myclobutanil—(19.7%).
94396-25 | 94396 | KNIGHTHAWK 4F | Prodiamine—(40.7%).
94396-26 | 94396 | PHOENIX CARDINAL | Ethephon—(21.7%).
94396-27 | 94396 | JETPHITER | Dipotassium phosphite (K2HPO3)—(45.5%).
94396-28 | 94396 | JAEGER | Dithiopyr—(24%).
94396-34 | 94396 | Aquatrols Trinexapac-Ethyl | Trinexapac-ethyl—(12%).
94865-1 | 94865 | Dish Sani Concentrate | Sodium hypochlorite—(12.5%).
95366-1 | 95366 | MiteXstream | Citronellol—(.21%), Geraniol—(.23%).
95729-1 | 95729 | Propagate AGC | Cytokinin (as kinetin)—(.05%), Gibberellic acid—(.05%), Indole-3-butyric acid—(.09%).
95921-2 | 95921 | ACTIVE RESPONSE | Hypochlorous Acid—(.05%).
96282-1 | 96282 | Ceravida Fresh | Chitosan—(3.4%).
96738-3 | 96738 | AKTIVE Disinfecting Wipes | 1-Decanaminium, N-decyl-N,N-dimethyl-, chloride—(.589%), Alkyl* dimethyl benzyl ammonium chloride *(50%C14, 40%C12, 10%C16)—(.449%), Ethanol—(5.08%).
98159-1 | 98159 | BIO5700 | 1-Octadecanaminium, N,N-dimethyl-N-(3-(trimethoxysilyl)propyl)-, chloride—(.84%).
98919-1 | 98919 | Caspian Disinfectant | Hypochlorous Acid—(.045%).
99503-3 | 99503 | ENVIROQUAT MBEB 80e | Alkyl* dimethyl benzyl ammonium chloride *(60%C14, 30%C16, 5%C18, 5%C12)—(40%), Alkyl* dimethyl ethylbenzyl ammonium chloride *(68%C12, 32%C14)—(40%).
100219-1 | 100219 | Algae Magic Eliminator | Copper sulfate pentahydrate—(99%).
100764-1 | 100764 | CUTTONTM 1902 Antimicrobial | Copper sulfate pentahydrate—(1.66%).
100777-1 | 100777 | EWCO 200 | Hypochlorous Acid—(.0164%).
101743-1 | 101743 | Oxalic Acid | Oxalic Acid Dihydrate—(99.6%).
101743-2 | 101743 | EZ-OX Tablets | Oxalic Acid Dihydrate—(97%).
101928-1 | 101928 | CHEMCORP SUPER POOL SHOCK | Calcium hypochlorite—(65%).
102058-1 | 102058 | Kate's Home & Garden Neem Oil | Neem oil (See Kerry Leifer. No Inert Use without his clearance.)—(100%).
102745-1 | 102745 | EB | Bacillus amyloliquefaciens strain 298—(.02%), Bacillus subtilis strain 281—(.02%), Bacillus subtilis strain 3—(.02%).
AR220001 | 71512 | Tiafenacil 339SC Herbicide | Tiafenacil—(30%).
CA170013 | 60217 | SHIELD POTATO SPROUT INHIBITOR EMULSIFIABLE CONCENTRATE | Chlorpropham—(36%).
CA200005 | 68506 | UVASYS | Sodium metabisulfite—(36.5%).
CA210004 | 64962 | EARTHTEC | Copper sulfate pentahydrate—(19.8%).
FL080007 | 63935 | CHATEAU HERBICIDE WDG | Flumioxazin—(51%).
ID220012 | 91411 | MANKOCIDE FUNGICIDE/BACTERICIDE | Copper hydroxide—(46.1%), Mancozeb—(15%).
LA220001 | 71512 | Tiafenacil 339SC Herbicide | Tiafenacil—(30%).
MA160002 | 69969 | AVIPEL (DRY) CORN SEED TREATMENT | Anthraquinone—(50%).
MS220001 | 71512 | Tiafenacil 339SC Herbicide | Tiafenacil—(30%).
NY070007 | 86203 | SAFARI 20 SG INSECTICIDE.
OR170003 | 91411 | MANKOCIDE FUNGICIDE/BACTERICIDE | Copper hydroxide—(46.1%), Mancozeb—(15%).
PA120001 | 69969 | AVIPEL (DRY) CORN SEED TREATMENT | Anthraquinone—(50%).
SD170004 | 69969 | AVIPEL HOPPER BOX (DRY) CORN SEED TREATMENT | Anthraquinone—(50%).
SD230001 | 71512 | Tiafenacil 339SC Herbicide | Tiafenacil—(30%).
SD230002 | 71512 | Tiafenacil 339SC Herbicide | Tiafenacil—(30%).
VA120001 | 69969 | AVIPEL (DRY) CORN SEED TREATMENT | Anthraquinone—(50%).
WA030030 | 91411 | MANKOCIDE | Copper hydroxide—(46.1%), Mancozeb—(15%).
WA200004 | 68506 | UVASYS | Sodium metabisulfite—(36.5%).
WA220006 | 59638 | CHATEAU EZ HERBICIDE | Flumioxazin—(41.4%).
WI210006 | 69969 | Avipel Dry Corn Seed Treatment | Anthraquinone—(50%).

Table 4—FIFRA Section 3 and Section 24(c) Registrations Cancelled for Non-Response or/Payment of 2024 Maintenance Fee
Company No. | Company name and address
106 | BRULIN & COMPANY INC, P.O. BOX 270, INDIANAPOLIS, IN 46206.
211 | CENTRAL SOLUTIONS, INC., 401 FUNSTON ROAD, KANSAS CITY, KS 66115.
224 | PHILLIPS 66 COMPANY, 411 S KEELER, BARTLESVILLE, OK 74003.
1007 | ZOETIS INC., 333 PORTAGE STREET, KALAMAZOO, MI 49007.
1130 | WEIMAN PRODUCTS, LLC., 755 TRI STATE PARKWAY, GURNEE, IL 60031.
2749 | ACETO LIFE SCIENCES, L.L.C., D/B/A ACTYLIS, 4 TRI HARBOR COURT, PORT WASHINGTON, NY 11050.
3095 | PIC CORPORATION, 1101-1107 WEST ELIZABETH AVENUE, LINDEN, NJ 07036.
3525 | QUALCO, INC., 225 PASSAIC ST., PASSAIC, NJ 07055.
3377 | ALBEMARLE CORPORATION, 4250 CONGRESS STREET, SUITE 900, CHARLOTTE, NC 28209.
3487 | BACON PRODUCTS COMPANY, INC., P.O. BOX 22187, CHATTANOOGA, TN 37422.
4959 | WEST AGRO, INC., 11100 N CONGRESS AVE., KANSAS CITY, MO 64153.
6198 | NATIONAL CHEMICALS, INC., P.O. BOX 32, WINONA, MN 55987.
7698 | RIDLEY USA INC., 111 WEST CHERRY STREET, SUITE 500, MANKATO, MN 56001.
9009 | ONLINE PACKAGING INC, 4311 LIBERTY LANE, PLOVER, WI 54467.
9404 | VOGEL SEED & FERTILIZER, LLC/FLORIDA DIVISION, 1891 SPRING VALLEY ROAD, JACKSON, WI 53037.
11773 | VAN DIEST SUPPLY COMPANY, P.O. BOX 610, WEBSTER CITY, IA 50595.
20729 | KLENSWITE POOL/SPA SUPPLY CO., INC., 2410 RT. 9 SOUTH, RIO GRANDE, NJ 08242.
21165 | PYRANHA, INC., 1164 JORDAN RANCH BLVD., BROOKSHIRE, TX 77423.
21268 | NAMCO, LLC, 100 SANRICO DRIVE, MANCHESTER, CT 06040.
32273 | BEHR PROCESS CORPORATION, 1801 E. ST. ANDREW PLACE, SANTA ANA, CA 92705.
33427 | ACETO US, L.L.C., D/B/A/ACTYLIS, 4 TRI HARBOR COURT, PORT WASHINGTON, NY 11050.
34370 | WECHEM, INC., 5734 SUSITNA DRIVE, HARAHAN, LA 70123.
35900 | FRANKLIN WATER TREATMENT, LLC, 9255 COVERDALE ROAD, FORT WAYNE, IN 46809.
36638 | SCENTRY BIOLOGICALS, INC., 610 CENTRAL AVENUE, BILLINGS, MT 59102.
36864 | PIERSON LABORATORIES INC., 7400 ALUMAX DR., TEXARKANA, TX 75501.
38104 | AWAY CHEMICAL CORP, 12503 EXCHANGE DRIVE, SUITE 540, STAFFORD, TX 77477.
41619 | E.J. MILLER & SONS POOL COMPANY, 388 CHURCH ROAD, MIFFLINBURG, PA 17844.
41971 | NORTH INDUSTRIAL CHEMICALS, INC., P.O. BOX 1985, YORK, PA 17405.
42519 | LUXEMBOURG-PAMOL, INC., 3647 WILLOWBEND BLVD., SUITE 810, HOUSTON, TX 77054.
42882 | GAMETRICS LIMITED, 426 LONESOME COUNTRY ROAD, ALZADA, MT 59311.
46579 | DICKSON CHEMICAL CO., INC., 2110 S PRAIRIE ST., STUTTGART, AR 72160.
46779 | RANCHER'S SUPPLY INC, P.O. BOX 725, ALPINE, TX 79831.
47265 | SHIN-ETSU CHEMICAL CO., LTD., 4-1, MARUNOUCHI 1-CHOME, CHIYODA-KU, TOKYO, 100-0005.
48234 | REGAL CHEMICAL CO., 600 BRANCH DR, ALPHARETTA, GA 30004.
49538 | PHYTON CORPORATION, 13505 INDUSTRIAL PARK BLVD., PLYMOUTH, MN 55441.
51219 | RECTORSEAL LLC, 2601 SPENWICK DRIVE, HOUSTON, TX 77055.
51311 | HBC CHEMICAL, LLC, 324A HALF ACRE ROAD, CRANBURY, NJ 08512.
52484 | THE LUBRIZOL CORPORATION, 29400 LAKELAND BLVD., WICKLIFFE, OH 44092.
53575 | PACIFIC BIOCONTROL CORPORATION, 14615 NE 13TH COURT, VANCOUVER, WA 98685.
54564 | FLORIDA ABLE GROUP, LLC D/B/A KLEEN POOL, 305 WILD OLIVE LN., LONGWOOD, FL 32779.
54998 | CAPO INDUSTRIES, LTD., 1200 CORPORATE DRIVE, BURLINGTON, ONTARIO L7L 5R6.
55467 | TENKOZ INC, 1725 WINDWARD CONCOURSE, SUITE 410, ALPHARETTA, GA 30005.
56336 | SUTERRA LLC, 20950 NORTHEAST TALUS PLACE, BEND, OR 97701.
56783 | ECOHEALTH, INC., 56 HAWES STREET, BROOKLINE, MA 02446.
57559 | KENNECOTT UTAH COPPER LLC, 4700 DAYBREAK PARKWAY, SOUTH JORDAN, UT 84095.
58007 | 3M, 3M CENTER, BULIDING 220-6E-03, ST PAUL, MN 55144.
58945 | MID-VALLEY AG. SVC. INC., P.O. BOX 728, OAKDALE, CA 95361.
59106 | THE LUBRIZOL CORPORATION, 29400 LAKELAND BLVD., WICKLIFFE, OH 44092.
59638 | QUALICHEM INC, P.O. BOX 926, SALEM, VA 24153.
59657 | PERMVIRO SYSTEMS INC, 3520 TROTTER DR, ALPHARETTA, GA 30004.
59807 | OHP, INC., 5151 MCCRIMMON PKWY STE 275, MORRISVILLE, NC 27560.
59825 | THE LUBRIZOL CORPORATION, 29400 LAKELAND BLVD., WICKLIFFE, OH 44092.
60217 | EASTER LILY RESEARCH FOUNDATION, P.O. BOX 907, BROOKINGS, OR 97415.
62531 | INEOS KOH, INC, 3509 MIDDLE ROAD, ASHTABULA, OH 44005.
63935 | THIRD PARTY REGISTRATIONS, INC., P.O. BOX 948153, MAITLAND, FL 32794.
64137 | DANSTAR FERMENT AG/LALLEMAND PLANT CARE, POSTSTRASSE 30, CH-6300 ZUG.
64910 | SPECIALTY GLASS INC., 305 MARLBOROUGH STREET, OLDSMAR, FL 34677.
64962 | EARTH SCIENCE LABORATORIES, INC., 903 NORTH 47TH STREET, SUITE 105, ROGERS, AR 72756.
65656 | GILMORE MARKETING AND DEVELOPMENT, 6070 POPLAR AVENUE, SUITE 710, MEMPHIS, TN 38187.
65787 | ANGELINI PHARMA INC., 230 PEACHTREE STREET, NW, SUITE 1250, ATLANTA, GA 30303.
65987 | DEADPEST LLC, P.O. BOX 9247, METAIRIE, LA 70005.
66397 | MID-CONTINENT PACKAGING INC, 1200 N 54TH ST., ENID, OK 73701.
66750 | ERCROS S.A., AVDA DIAGONAL, 595, 5TH FLOOR, 08014 BARCELONA.
66784 | UNITED PROMOTIONS INC, 1017 B COLLIER ROAD, ATLANTA, GA 30318.
67503 | MEDACHIEVE INC, 49 TIMBER PARK DRIVE, BLACK MOUNTAIN, NC 28711.
68186 | IJO PRODUCTS, LLC, 4672 W. JENNIFER, SUITE 103, FRESNO, CA 93722.
68506 | TESSARA (PTY) LTD, 35 KINGHALL AVENUE, EPPING 2, CAPE TOWN, 7460.
68719 | MARCO INDUSTRIES INCORPORATED, 9220 S.E. STARK ST., PORTLAND, OR 97216.
69132 | PURAC AMERICA, INC, 7905 QUIVIRA ROAD, LENEXA, KS 66215.
69151 | PAROXMED, LLC, 23350 S 216TH STREET, QUEEN CREEK, AZ 85142.
69340 | ANDERSEN STERILIZERS, INC., HEALTH SCIENCE PARK, 3154 CAROLINE DRIVE, HAW RIVER, NC 27258.
69361 | REPAR CORP, P.O. BOX 4321, SILVER SPRING, MD 20914.
69407 | ANIMAL DERMATOLOGY LABORATORIES, P.O. BOX 19097, IRVINE, CA 92623.
69526 | PETRO-CANADA LUBRICANTS INC., D/B/A INTELLIGRO, 385 SOUTHDOWN ROAD, MISSISSAUGA, ONTARIO L5J 2Y3.
69766 | ADVANCED FOLIAR NUTRIENTS SYSTEMS, 6501 SCHIRRA COURT, SUITE 101, BAKERSFIELD, CA 93313.
69969 | ARKION LIFE SCIENCES, LLC, 551 MEWS DRIVE SUITE J, NEW CASTLE, DE 19720.
70062 | BABOLNA BIOENVIRONMENTAL CENTRE PRIVATE LIMITED COMPANY, 1107 BUDAPEST, SZALLAS U. 6.
70209 | TFL USA/CANADA, INC, 525 WOODLAND SQUARE BLVD. SUITE 250, CONROE, TX 77384.
70305 | HBC CHEMICAL, LLC, 324 HALF ACRE RD., CRANBURY, NJ 08512.
70385 | PRORESTORE PRODUCTS, 15180 JOSH WILSON ROAD, BURLINGTON, WA 98233.
70804 | USALCO LLC, 2601 CANNERY AVENUE, BALTIMORE, MD 21226.
71297 | AGROFRESH INC., 510-530 WALNUT STREET—SUITE 1350, PHILADELPHIA, PA 19106.
71332 | ENVIROGARD PRODUCTS LIMITED, 446 MAJOR MACKENZIE DRIVE EAST, UNIT 6, RICHMOND HILL, ON L4C 1J2, CANADA.
71406 | WOLMAN WOOD AND FIRE PROTECTION GMBH, DR.-WOLMAN STRASSE 31-33, D-7654 7 SINZHEIM.
71512 | ISK BIOSCIENCES CORPORATION, 7470 AUBURN ROAD, SUITE A, CONCORD, OH 44077.
71653 | GENICS INC., #561 ACHESON RD.—63016 HWY 60, ACHESON, ALBERTA T7X 5A7.
72265 | SECURITY EQUIPMENT CORPORATION, 747 SUN PARK DRIVE, FENTON, MO 63026.
72500 | SCIMETRICS, LTD. CORPORATION, P.O. BOX 1045, WELLINGTON, CO 80549.
72959 | D&D HOLDINGS, INC., 153 TRIANGLE DRIVE, WEYERS CAVE, VA 24486.
73479 | SUTERRA LLC, 20950 NORTHEAST TALUS PLACE, BEND, OR 97701.
73667 | APYRON TECHNOLOGIES, 3317 CHAMBLEE DUNWOODY ROAD, CHAMBLEE, GA 30341.
73711 | BIOLENE S.R.L., PONTEVEDRA MERLO PARTIDO (B1761BWN), BUENOS AIRES.
74267 | PREMIER TECH GROWERS AND CONSUMERS INC., 200 KELLY ROAD, UNIT E-1, QUAKERTOWN, PA 18951.
74559 | VIROX TECHNOLOGIES, INC., 2770 COVENTRY ROAD, OAKVILLE, ONTARIO L6H 6R1.
75459 | ALBAAD MASSUOT YITZHAK LTD.,, MASSUOT YITZHAK 79858
75661 | POSITIVE IMPACT WASTE SOLUTIONS, LLC, P.O. BOX 1725, PARAMUS, NJ 07653.
79533 | WISCONSIN PHARMACAL COMPANY, LLC, 1 PHARMACAL WAY, JACKSON, WI 53037.
81242 | YCLEAN ENTERPRISES, LLC, 1055 PARSIPPANY BOULEVARD, SUITE 204, PARSIPPANY, NJ 07054.
81927 | ALLIGARE, LLC, 1565 5TH AVENUE, OPELIKA, AL 36801.
81936 | WEED WORKS, INC., 2023 E. SIMS WAY, SUITE 358, PORT TOWNSEND, WA 98368.
81951 | ROC ENTERPRISES, LLC, 1908 WEST K 140 HWY, SALINA, KS 67401.
82012 | COPPER DEVELOPMENT ASSOCIATION (CDA), 260 MADISON AVENUE, NEW YORK, NY 10016.
82123 | ALLERGY TECHNOLOGIES LLC, 425 COMMERCE DRIVE SUITE 300, FORT WASHINGTON, PA 19034.
82796 | HAWKINS, INC., 2381 ROSEGATE, ROSEVILLE, MN 55113.
82810 | DERMAEGIS, INC., 5730 CLARENDON DRIVE, ROCKFORD, IL 61114.
83168 | SUFFOLK SALES AND SERVICE CORPORATION, 1881 GOVERNOR'S POINTE DR., SUITE A, SUFFOLK, VA 23433.
83190 | BLUEWATER CHEMGROUP, INC., P.O. BOX 11384, FORT WAYNE, IN 46857.
83451 | BWA WATER ADDITIVES US LLC, 5544 OAKDALE ROAD, SE, SMYRNA, GA 30082.
83933 | PRESCHEM PTY. LTD, 147—149 HERALD ST., CHELTENHAM, VICTORIA 3192.
83997 | VIANCE, LLC, 8001 IBM DRIVE, CHARLOTTE, NC 28262.
84059 | PRO FARM GROUP, INC., 1530 DREW AVE., DAVIS, CA 95618.
84069 | SUMMERSET PRODUCTS, 130 COLUMBIA COURT, CHASKA, MN 55318.
84149 | ECONOMY MUD PRODUCTS COMPANY, 435 EAST ANDERSON ROAD, HOUSTON, TX 77245.
84189 | RUDOLF GMBH & CO. KG, ALTVATERSTRASSE 58-64, GERETSRIED
84396 | SUNGRO PRODUCTS, LLC, 810 E. 18TH STREET, LOS ANGELES, CA 90021.
85348 | DEVAN INTERNATIONAL GROUP NV, KLEIN FRANKRIJKSTRAAT 8, 9600 RONSE.
85493 | REPELLEX USA, INC., P.O. BOX 396, NILES, MI 49120.
86014 | CARESTREAM HEALTH, INC., 2000 HOWARD SMITH AVENUE WEST, WINDSOR, CO 80550.
86064 | UNITED TURF ALLIANCE, LLC., 8014 CUMMING HIGHWAY, SUITE 403-282, CANTON, GA 30115.
86106 | KOA GLASS COMPANY, LTD., 25-27 HIRAI 1-CHROME, EDOGAWA-KU, TOKYO, 132-0035
86197 | FSTI, INC., 6300 BRIDGEPOINT PARKWAY, SUITE 1-200, AUSTIN, TX 78730.
86203 | MITSUI CHEMICALS CROP & LIFE SOLUTIONS, INC., 1-19-1, NIHONBASHI, CHUO-KU, TOKYO, 103-0027
86277 | FARMWAY, INC., P.O. BOX 640, HOCKESSIN, DE 19707.
86583 | ROTH CHEMICAL COMPANY, LTD., 7200 WEST 132ND STREET, SUITE 360, OVERLAND PARK, KS 66213.
86829 | MACROTECH INDUSTRIES, INC., 246 MAMARONECK ROAD, SCARSDALE, NY 10583.
87134 | CHL, LLC, P.O. BOX 481, LEOMINSTER, MA 01453.
87326 | TOTALENERGIES PETROCHEMICALS & REFINING USA, INC., 1201 LOUISIANA STREET, SUITE 1800, HOUSTON, TX 77002.
87358 | QUICK-MED TECHNOLOGIES, INC., 902 NW 4TH STREET, GAINESVILLE, FL 32601.
87518 | HSP USA, LLC, 3111 ROUTE 38, SUITE 11, #310, MOUNT LAUREL, NJ 08054.
87656 | FLEX AI, LLC, 5300 DERRY STREET, HARRISBURG, PA 17111.
87703 | SPECTRUM BRANDS PET GROUP, INC. D/B/A UNITED PET GROUP, INC., 3001 COMMERCE STREET, BLACKSBURG, VA 24060.
87769 | GLORION, LLC, P.O. BOX 21720, MESA, AZ, 85277.
88142 | HAEKEE CO., LTD., RM 804, 27 SEONRYU-RO, YEONGDEUNGPO-GU, SEOUL 07285.
88347 | PHYLLOM BIOPRODUCTS CORPORATION, 484 LAKE PARK AVENUE, #23, OAKLAND, CA 94610.
88714 | WATER SCIENCE TECHNOLOGIES, LLC, 1701 VANDERBILT ROAD, BIRMINGHAM, AL 35234.
88760 | TERRAMERA, INC., 199 W 6TH AVE., VANCOUVER, BC V5Y IK3.
88999 | AQUAGENICS TECHNOLOGIES, INC., 2764 GOLFVIEW DRIVE, NAPERVILLE, IL 60540.
89266 | LUMINORE COPPER TOUCH, 6060 CORTE DEL CEDRO, CARLSBAD, CA 92011.
89816 | MEBROM CORP., 251 LITTLE FALLS DRIVE, WILMINGTON, DE 19808.
89867 | AIRGAS USA, LLC, 259 N. RADNOR-CHESTER ROAD, SUITE 100, RADNOR, PA 19087.
90098 | CENTRAL GARDEN & PET, GARDEN DIVISION, 1000 PARKWOOD CIRCLE, SUITE 700, ATLANTA, GA 30339.
90271 | PROCESS CLEANING SOLUTIONS LTD, 2060 FISHER DRIVE, PETERBOROUGH, ONK9J-8N4.
90287 | CONSUMER PRODUCT PARTNERS, LLC, 8515 PAGE AVENEUE, ST. LOUIS, MO 63114.
90290 | ADELA MONICA BULJUBASICH, MAPASINGUE OESTE CALLE 5A Y AVENIDA 3 A, GUAYAQUIL ECUADOR.
91163 | TEXAS CORN PRODUCERS BOARD, 4205 NORTH INTERSTATE 27, LUBBOCK, TX 79403.
91174 | J & S CHEM CO., 25488 HWY 45, BROOKSVILLE, MS 39739.
91186 | MINTECH ABSORBENTS, LLC, 3803 COMMODORE TRAIL, BLOOMINGTON, IN 47408.
91243 | ONG CONSULTING, LLC, 2513 WINNERS CIRCLE, HEATH, TX 75126.
91283 | AMOEBA SA, 38 AVENUE DES FR RES MONTGOLFIER, F-69680 CHASSIEU.
91411 | COSACO LLC, 12701 ALMEDA ROAD, HOUSTON, TX 77045.
91605 | FLORIDA INSECT CONTROL GROUP, LLC, 5305 NW 72ND ST., GAINESVILLE, FL 32653.
91720 | IN2CARE B.V., MARIJKEWEG 22, 6709PG WAGENINGEN.
91853 | ATOMS F.D. INC., 3485 RUE ASHBY, VILLE SAINT LAURENT, QUEBEC H4R 2K3.
91899 | SPAN-WORLD LLC., P.O. BOX 18155, GOLDEN, CO 80402.
92024 | MICROSHIELD 360, 4700 ROCKSIDE ROAD SUITE, INDEPENDENCE, OH 44131.
92029 | SHANGHAI FORTUNE APPAREL CO. LTD., ZHONGCHUN ROAD 7001-D-1202, MINGGU TECH. PARK, SHANGHAI.
92138 | MJ TOOLS CORP., 644 MIGALDI LANE, SUITE 500, LANSING, MI 48917.
92388 | LEMI SHINE, 1250 SOUTH CAPITAL HWY OF TEXAS, SUITE 1350, AUSTIN, TX 78746.
92393 | XYPEX CHEMICAL CORPORATION, 13731 MAYFIELD PLACE, RICHMOND BC C V6V 2G9.
92413 | TEVRA BRANDS, LLC., 9100 F STREET, SUITE 200, OMAHA, NE 68127.
92654 | OXYGEN POOLS, LLC, 3055 TECH PARK WAY, SUITE A, DELAND, FL 32724.
92686 | DNW GLOBAL, LLC, P.O. BOX 2312, WINDERMERE, FL 34786.
92967 | AVENGER PRODUCTS LLC, 1605 CANDLER ROAD, GAINESVILLE, GA 30507.
93113 | PI INDUSTRIES, INC., 8275 S EASTERN AVENUE, SUITE #200-882, LAS VEGAS, NV 89123.
93365 | ORION KME, LLC, 425 WESTCHESTER LANE, VALPARAISO, IN 46384.
93392 | AQUAOX, LLC, 17355 HAMLIN BOULEVARD, LOXAHATCHEE, FL 33470.
93455 | LATIN AMERICA REGULATORY SERVICE (LARS), LLC, 7110 HARCOUT CROSSING, INDIAN LAND, SC 29707.
93496 | CJS SPC EKOPROM, 140070, 11 GARSHINA STR, TOMILINO TOWN, MOSCOW REGION 140070.
93585 | CHEMLOGIC, INC., 992 E. TEXAS AVENUE, RAYNE, LA 70578.
93672 | NEOSAN LABS INC., 1925 ASPEN DRIVE, #702, SANTA FE, NM 87505.
93740 | CONTACT BIOSOLUTIONS USA, INC., 4947 US 75 AVENUE, MAURICE, IA 51036.
93756 | PUROX BRANDS CORP, 5801 E 10TH AVE, SUITE 108, HIALEAH, FL 33013.
93908 | AQUA ENGINEERED SOLUTION INC., 222 MOOSE MEADOW ROAD, WILLINGTON, CT 06279.
94196 | ESC BRANDS, LLC, 1026 BLUE PRINCE ROAD, SUITE B, BLUEFIELD, WV 24701.
94278 | OASIS CHEMICALS, LLC, 9821 HIGHWAY 62, WOLFFORTH, TX 79382.
94396 | AQUATROLS CORPORATION OF AMERICA, 1273 IMPERIAL WAY, PAULSBORO, NJ 08066.
94865 | TERRACE PACKAGING CO., 2819 SOUTHWEST BLVD., KANSAS CITY, MO 64108.
95366 | TOUCHSTONE ENVIRO SOLUTIONS, INC., 30 NORTH GOULD, SUITE R, SHERIDAN, WY 82801.
95729 | AG CONCEPTS CORP., 439 EAST SHORE DRIVE SUITE 200, EAGLE, ID 83616.
95921 | ELECTROCHARGED AQUA SOLUTIONS INC, 1550 S ANAHEIM BLVD STE. B,, ANAHEIM, CA 92805.
96282 | G. CLO INC., 100 MAEYEO-RO, DONG-GU, DAEGU.
96738 | VAXMAN GROUP 2015 LTD., GORDON 1, HAIFA 3276414.
98159 | BioSafe90, LLC, 6115 Skyline Drive, Houston, TX 77057.
98919 | WISTWELL, 515 Valley Street, Ste 130, Maplewood, NJ 07040.
99503 | Environmental Fluids, Inc., 4241 N Winfield Scott Plaza, Suite 101, Scottsdale, AZ 85821.
100219 | HAPPY SISTERS DISTRIBUTION LLC, 2934 Woodhams Ave., Portage, MI 49002.
100777 | EWCO LLC, 1680 MICHIGAN AVE., STE 700, Miami, FL 33139.
101743 | Mike's Bees LLC, 60421 STEWART RD, CAMBRIDGE, OH 43725.
101928 | CHEMCORP, 14931 NW 27TH AVE, OPA LOCKA, FL 33054.
102058 | XYZ Innovators LLC, 17870 NEWHOPE ST. #104-222, FOUNTAIN VALLEY, CA 92708.
102745 | ECOLOGICAL BALANCING TECHNOLOGIES CORPORATION, 704 NORTH KING STREET, SUITE 500, WILMINGTON, DE 19899.

III. What is the Agency's authority for taking this action?

FIFRA section 6(f)(1) (7 U.S.C. 136d(f)(1)) provides that a registrant of a pesticide product may at any time request that any of its pesticide registrations be cancelled. FIFRA further provides that, before acting on the request, EPA must publish a notice of receipt of any such request in the Federal Register. EPA will provide a 30-day comment period on the proposed requests. Thereafter, the EPA Administrator may approve such a request.

Additionally, FIFRA section 4(i)(1) (7 U.S.C. 136a-1(i)(1)) requires that all pesticide registrants pay an annual registration maintenance fee, due by January 15 of each year, to keep their registrations in effect. This requirement applies to all registrations granted under FIFRA section 3 (7 U.S.C. 136a) as well as those granted under FIFRA section 24(c) (7 U.S.C. 136v(c)) to meet special local needs. Registrations for which the fee is not paid are subject to cancellation by order and without a hearing pursuant to FIFRA section 4(i)(1)(M) (7 U.S.C. 136a-1(i)(1)(M)). Accordingly, no comment period is being provided for the products listed in table 3 of unit XXII.

EPA recognizes that this notice of intent to cancel pursuant to FIFRA section 4(i)(1)(M) for failure to pay 2024 FIFRA maintenance fees is being issued at roughly the same time as the notice of cancellation for failure to pay 2023 FIFRA maintenance fees. This timing largely results from unusual circumstances in fiscal year 2023, where FIFRA section 4(i) maintenance fees were collected in two billing cycles, as opposed to the normal single billing cycle. For additional explanation of the circumstances resulting in that procedural change, please refer to the document published in the Federal Register on October 16, 2024, titled “Pesticide Registration Maintenance Fee: Product Cancellation Order for Certain Pesticide Registrations” (89 FR 83474) (FRL-12275-01). Accordingly, multiple products listed in tables 1 and 3 of this notice may have already been cancelled as a result of the 2023 FIFRA maintenance fee collection process.

IV. Procedures for Withdrawal of Request

Registrants who choose to withdraw a request for cancellation should submit such withdrawal in writing to the person listed under FOR FURTHER INFORMATION CONTACT. If the products have been subject to a previous cancellation action, the effective date of cancellation and all other provisions of any earlier cancellation action are controlling.

V. Provisions for Disposition of Existing Stocks

Existing stocks are those stocks of registered pesticide products that are currently in the United States and that were packaged, labeled, and released for shipment prior to the effective date of the cancellation action. Upon cancellation of the products identified in table 1 of unit II, the registrants listed in table 2 of unit II will be permitted to sell and distribute existing stocks of these products for one year after the date that the cancellation notice is published in the Federal Register. Thereafter, registrants will be prohibited from selling or distributing the pesticides identified in table 1 of unit II, except for export consistent with FIFRA section 17 (7 U.S.C. 136o) or for proper disposal. Persons other than registrants will generally be allowed to sell, distribute, or use existing stocks until such stocks are exhausted, provided that such sale, distribution, or use is consistent with the terms of the previously approved labeling on, or that accompanied, the cancelled products.

Under EPA's existing stocks policy, if a registrant fails to pay the appropriate maintenance fee and the product subject to that fee is later cancelled, the registrant will generally not be allowed to sell or distribute existing stocks of the cancelled product more than 1 year after the date the maintenance fee was due. Here, the registrants of products listed in table 3 were required to submit maintenance fees by January 16, 2024. Accordingly, the registrants listed in table 4 of unit II will be permitted to sell and distribute existing stocks of products listed in table 3 until January 16, 2025. Thereafter, the registrants are prohibited from selling or distributing products listed in table 3, except for export in accordance with FIFRA section 17 (7 U.S.C. 136o), or proper disposal. Persons other than registrants listed in table 4 may sell, distribute, or use existing stocks of products listed in Table 3 until existing stocks are exhausted, provided that such sale, distribution, or use is consistent with the terms of the previously approved labeling on, or that accompanied, the cancelled products.

Authority: 7 U.S.C. 136 et seq.

Dated: November 13, 2024.
Charles Smith,
Director, Registration Division, Office of Pesticide Programs.

[FR Doc. 2024-26931 Filed 11-18-24; 8:45 am]

BILLING CODE 6560-50-P